DEPARTMENT OF COMMERCE

National Oceanic and Atmospheric Administration

50 CFR Part 229

[Docket No. 1140325271-4999-02]

RIN 0648-BE13

List of Fisheries for 2015

AGENCY: National Marine Fisheries Service (NMFS), National Oceanic and Atmospheric Administration (NOAA), Commerce.

ACTION: Final rule.

SUMMARY: The National Marine Fisheries Service (NMFS) publishes its final List of Fisheries (LOF) for 2015, as required by the Marine Mammal Protection Act (MMPA). The final LOF for 2015 reflects new information on interactions between commercial fisheries and marine mammals. NMFS must classify each commercial fishery on the LOF into one of three categories under the MMPA based upon the level of mortality and serious injury of marine mammals that occurs incidental to each fishery. The classification of a fishery on the LOF determines whether participants in that fishery are subject to certain provisions of the MMPA, such as registration, observer coverage, and take reduction plan (TRP) requirements.

DATES: The effective date of this final rule is January 28, 2015.

ADDRESSES: Chief, Marine Mammal and Sea Turtle Conservation Division, Office of Protected Resources, NMFS, 1315 East-West Highway, Silver Spring, MD 20910.

FOR FURTHER INFORMATION CONTACT: Lisa White, Office of Protected Resources, 301-427-8494; Allison Rosner, Greater Atlantic Region, 978-281-9328; Jessica Powell, Southeast Region, 727-824-5312; Elizabeth Petras, West Coast Region (CA), 562-980-3238; Brent Norberg, West Coast Region (WA/OR), 206-526-6550; Kim Rivera, Alaska Region, 907-586-7424; Nancy Young, Pacific Islands Region, 808-725-5156. Individuals who use a telecommunications device for the hearing impaired may call the Federal Information Relay Service at 1-800-877-8339 between 8 a.m. and 4 p.m. Eastern time, Monday through Friday, excluding Federal holidays.

SUPPLEMENTARY INFORMATION:

What is the list of fisheries?

Section 118 of the MMPA requires NMFS to place all U.S. commercial fisheries into one of three categories based on the level of incidental mortality and serious injury of marine mammals occurring in each fishery (16 U.S.C. 1387(c)(1)). The classification of a fishery on the LOF determines whether participants in that fishery may be required to comply with certain provisions of the MMPA, such as registration, observer coverage, and take reduction plan requirements. NMFS must reexamine the LOF annually, considering new information in the Marine Mammal Stock Assessment Reports (SARs) and other relevant sources, and publish in the Federal Register any necessary changes to the LOF after notice and opportunity for public comment (16 U.S.C. 1387 (c)(1)(C)).

How does NMFS determine in which category a fishery is placed?

The definitions for the fishery classification criteria can be found in the implementing regulations for section 118 of the MMPA (50 CFR 229.2). The criteria are also summarized here.

Fishery Classification Criteria

The fishery classification criteria consist of a two-tiered, stock-specific approach that first addresses the total impact of all fisheries on each marine mammal stock and then addresses the impact of individual fisheries on each stock. This approach is based on consideration of the rate, in numbers of animals per year, of incidental mortalities and serious injuries of marine mammals due to commercial fishing operations relative to the potential biological removal (PBR) level for each marine mammal stock. The MMPA (16 U.S.C. 1362 (20)) defines the PBR level as the maximum number of animals, not including natural mortalities, that may be removed from a marine mammal stock while allowing that stock to reach or maintain its optimum sustainable population. This definition can also be found in the implementing regulations for section 118 of the MMPA (50 CFR 229.2).

Tier 1: If the total annual mortality and serious injury of a marine mammal stock, across all fisheries, is less than or equal to 10 percent of the PBR level of the stock, all fisheries interacting with the stock will be placed in Category III (unless those fisheries interact with other stock(s) in which total annual mortality and serious injury is greater than 10 percent of PBR). Otherwise, these fisheries are subject to the next tier (Tier 2) of analysis to determine their classification.

Tier 2, Category I: Annual mortality and serious injury of a stock in a given fishery is greater than or equal to 50 percent of the PBR level (i.e., frequent incidental mortality and serious injury of marine mammals).

Tier 2, Category II: Annual mortality and serious injury of a stock in a given fishery is greater than 1 percent and less than 50 percent of the PBR level (i.e., occasional incidental mortality and serious injury of marine mammals).

Tier 2, Category III: Annual mortality and serious injury of a stock in a given fishery is less than or equal to 1 percent of the PBR level (i.e., a remote likelihood of or no known incidental mortality and serious injury of marine mammals).

While Tier 1 considers the cumulative fishery mortality and serious injury for a particular stock, Tier 2 considers fishery-specific mortality and serious injury for a particular stock. Additional details regarding how the categories were determined are provided in the preamble to the final rule implementing section 118 of the MMPA (60 FR 45086, August 30, 1995).

Because fisheries are classified on a per-stock basis, a fishery may qualify as one Category for one marine mammal stock and another Category for a different marine mammal stock. A fishery is typically classified on the LOF at its highest level of classification (e.g., a fishery qualifying for Category III for one marine mammal stock and for Category II for another marine mammal stock will be listed under Category II). Stocks driving a fishery's classification are denoted with a superscript “1” in Tables 1 and 2.

Other Criteria That May Be Considered

The tier analysis requires a minimum amount of data, and NMFS does not have sufficient data to perform a tier analysis on certain fisheries. Therefore, NMFS has classified certain fisheries by analogy to other Category I or II fisheries that use similar fishing techniques or gear that are known to cause mortality or serious injury of marine mammals, or according to factors discussed in the final LOF for 1996 (60 FR 67063, December 28, 1995) and listed in the regulatory definition of a Category II fishery: “In the absence of reliable information indicating the frequency of incidental mortality and serious injury of marine mammals by a commercial fishery, NMFS will determine whether the incidental mortality or serious injury is `frequent,' `occasional,' or `remote' by evaluating other factors such as fishing techniques, gear used, methods used to deter marine mammals, target species, seasons and areas fished, qualitative data from logbooks or fisher reports, stranding data, and the species and distribution of marine mammals in the area, or at the discretion of the Assistant Administrator for Fisheries” (50 CFR 229.2).

Further, eligible commercial fisheries not specifically identified on the LOF are deemed to be Category II fisheries until the next LOF is published (50 CFR 229.2).

How does NMFS determine which species or stocks are included as incidentally killed or injured in a fishery?

The LOF includes a list of marine mammal species and/or stocks incidentally killed or injured in each commercial fishery. The list of species and/or stocks incidentally killed or injured includes “serious” and “non-serious” documented injuries as described later in the List of Species and/or Stocks Incidentally Killed or Injured in the Pacific Ocean and the Atlantic Ocean, Gulf of Mexico, and Caribbean sections. To determine which species and stocks are included as incidentally killed or injured in a fishery, NMFS annually reviews the information presented in the current SARs. The SARs are based upon the best available scientific information and provide the most current and inclusive information on each stock's PBR level and level of interaction with commercial fishing operations. The best available scientific information used in the SARs reviewed for the 2015 LOF generally summarizes data from 2007-2011. NMFS also reviews other sources of new information, including injury determination reports, bycatch estimation reports, observer data, logbook data, stranding data, disentanglement network data, fisher self-reports (i.e. MMPA reports), and anecdotal reports from that time period.

Where does NMFS obtain information on the level of observer coverage in a fishery on the LOF?

The best available information on the level of observer coverage and the spatial and temporal distribution of observed marine mammal interactions is presented in the SARs. Data obtained from the observer program and observer coverage levels are important tools in estimating the level of marine mammal mortality and serious injury in commercial fishing operations. Starting with the 2005 SARs, each SAR includes an appendix with detailed descriptions of each Category I and II fishery on the LOF, including the observer coverage in those fisheries. The SARs generally do not provide detailed information on observer coverage in Category III fisheries because, under the MMPA, Category III fisheries are generally not required to accommodate observers aboard vessels due to the remote likelihood of mortality and serious injury of marine mammals. Fishery information presented in the SARs' appendices and other resources referenced during the tier analysis may include: Level of observer coverage, target species, levels of fishing effort, spatial and temporal distribution of fishing effort, characteristics of fishing gear and operations, management and regulations, and interactions with marine mammals. Copies of the SARs are available on the NMFS Office of Protected Resources Web site at: http://www.nmfs.noaa.gov/pr/sars/. Information on observer coverage levels in Category I and II fisheries can also be found in the Category I and II fishery fact sheets on the NMFS Office of Protected Resources' Web site: http://www.nmfs.noaa.gov/pr/interactions/lof/. Additional information on observer programs in commercial fisheries can be found on the NMFS National Observer Program's Web site: http://www.st.nmfs.gov/st4/nop/.

How do I find out if a specific fishery is in category I, II, or III?

This rule includes three tables that list all U.S. commercial fisheries by LOF Category. Table 1 lists all of the commercial fisheries in the Pacific Ocean (including Alaska); Table 2 lists all of the commercial fisheries in the Atlantic Ocean, Gulf of Mexico, and Caribbean; and Table 3 lists all U.S.-authorized commercial fisheries on the high seas. A fourth table, Table 4, lists all commercial fisheries managed under applicable TRPs or take reduction teams (TRTs).

Are high seas fisheries included on the LOF?

Beginning with the 2009 LOF, NMFS includes high seas fisheries in Table 3 of the LOF, along with the number of valid High Seas Fishing Compliance Act (HSFCA) permits in each fishery. As of 2004, NMFS issues HSFCA permits only for high seas fisheries analyzed in accordance with the National Environmental Policy Act (NEPA) and the Endangered Species Act (ESA). The authorized high seas fisheries are broad in scope and encompass multiple specific fisheries identified by gear type. For the purposes of the LOF, the high seas fisheries are subdivided based on gear type (e.g., trawl, longline, purse seine, gillnet, troll, etc.) to provide more detail on composition of effort within these fisheries. Many fisheries operate in both U.S. waters and on the high seas, creating some overlap between the fisheries listed in Tables 1 and 2 and those in Table 3. In these cases, the high seas component of the fishery is not considered a separate fishery, but an extension of a fishery operating within U.S. waters (listed in Table 1 or 2). NMFS designates those fisheries in Tables 1, 2, and 3 by a “*” after the fishery's name. The number of HSFCA permits listed in Table 3 for the high seas components of these fisheries operating in U.S. waters does not necessarily represent additional effort that is not accounted for in Tables 1 and 2. Many vessels/participants holding HSFCA permits also fish within U.S. waters and are included in the number of vessels and participants operating within those fisheries in Tables 1 and 2.

HSFCA permits are valid for five years, during which time FMPs can change. Therefore, some vessels/participants may possess valid HSFCA permits without the ability to fish under the permit because it was issued for a gear type that is no longer authorized under the most current FMP. For this reason, the number of HSFCA permits displayed in Table 3 is likely higher than the actual U.S. fishing effort on the high seas. For more information on how NMFS classifies high seas fisheries on the LOF, see the preamble text in the final 2009 LOF (73 FR 73032; December 1, 2008). Additional information about HSFCA permits can be found at: http://www.nmfs.noaa.gov/ia/permits/highseas.html.

Where can I find specific information on fisheries listed on the LOF?

Starting with the 2010 LOF, NMFS developed summary documents, or fishery fact sheets, for each Category I and II fishery on the LOF. These fishery fact sheets provide the full history of each Category I and II fishery, including: When the fishery was added to the LOF, the basis for the fishery's initial classification, classification changes to the fishery, changes to the list of species and/or stocks incidentally killed or injured in the fishery, fishery gear and methods used, observer coverage levels, fishery management and regulation, and applicable TRPs or TRTs, if any. These fishery fact sheets are updated after each final LOF and can be found under “How Do I Find Out if a Specific Fishery is in Category I, II, or III?” on the NMFS Office of Protected Resources' Web site: http://www.nmfs.noaa.gov/pr/interactions/lof/, linked to the “List of Fisheries by Year” table. NMFS is developing similar fishery fact sheets for each Category III fishery on the LOF. However, due to the large number of Category III fisheries on the LOF and the lack of accessible and detailed information on many of these fisheries, the development of these fishery fact sheets is taking significant time to complete. NMFS will begin posting Category III fishery fact sheets online with the final 2015 LOF.

Am I required to register under the MMPA?

Owners of vessels or gear engaging in a Category I or II fishery are required under the MMPA (16 U.S.C. 1387(c)(2)), as described in 50 CFR 229.4, to register with NMFS and obtain a marine mammal authorization to lawfully take non-endangered and non-threatened marine mammals incidental to commercial fishing operations. Owners of vessels or gear engaged in a Category III fishery are not required to register with NMFS or obtain a marine mammal authorization.

How do I register and receive my authorization certificate and mortality/injury reporting forms?

NMFS has integrated the MMPA registration process, implemented through the Marine Mammal Authorization Program (MMAP), with existing state and Federal fishery license, registration, or permit systems for Category I and II fisheries on the LOF. Participants in these fisheries are automatically registered under the MMAP and are not required to submit registration or renewal materials directly under the MMAP. In the Pacific Islands, West Coast, and Alaska regions, NMFS will issue vessel or gear owners an authorization certificate and/or mortality/injury reporting forms via U.S. mail or with their state or Federal license at the time of renewal. In the Greater Atlantic Region, NMFS will issue vessel or gear owners an authorization certificate via U.S. mail automatically at the beginning of each calendar year; but vessel or gear owners must request or print mortality/injury reporting forms by contacting the NMFS Greater Atlantic Regional Office at 978-281-9328 or by visiting the Greater Atlantic Regional Office Web site (http://www.nero.noaa.gov/mmap). In the Southeast region, NMFS will issue vessel or gear owners notification of registry and vessel or gear owners may receive their authorization certificate and/or mortality/injury reporting form by contacting the Southeast Regional Office at 727-209-5952 or by visiting the Southeast Regional Office Web site (http://sero.nmfs.noaa.gov/protected_resources/marine_mammal_authorization_program/) and following the instructions for printing the necessary documents. Mortality/injury forms are also available online at http://www.nmfs.noaa.gov/pr/pdfs/interactions/mmap_reporting_form.pdf.

The authorization certificate, or a copy, must be on board the vessel while it is operating in a Category I or II fishery, or for non-vessel fisheries, in the possession of the person in charge of the fishing operation (50 CFR 229.4(e)). Although efforts are made to limit the issuance of authorization certificates to only those vessel or gear owners that participate in Category I or II fisheries, not all state and Federal permit systems distinguish between fisheries as classified by the LOF. Therefore, some vessel or gear owners in Category III fisheries may receive authorization certificates even though they are not required for Category III fisheries. Individuals fishing in Category I and II fisheries for which no state or Federal permit is required must register with NMFS by contacting their appropriate Regional Office (see ADDRESSES).

How do I renew my registration under the MMAP?

In Alaska regional and Greater Atlantic Regional fisheries, registrations of vessel or gear owners are automatically renewed and participants should receive an authorization certificate by January 1 of each new year. In Pacific Islands regional fisheries, vessel or gear owners receive an authorization certificate by January 1 for state fisheries and with their permit renewal for federal fisheries. In West Coast regional fisheries, vessel or gear owners receive authorization with each renewed state fishing license, the timing of which varies based on target species. Vessel or gear owners who participate in fisheries in these regions and have not received authorization certificates by January 1 or with renewed fishing licenses must contact the appropriate NMFS Regional Office (see ADDRESSES).

In Southeast regional fisheries, vessel or gear owners' registrations are automatically renewed and participants will receive a letter in the mail by January 1 instructing them to contact the Southeast Regional Office to have an authorization certificate mailed to them or to visit the Southeast Regional Office Web site (http://sero.nmfs.noaa.gov/protected_resources/marine_mammal_authorization_program/) to print their own certificate.

Am I required to submit reports when I kill or injure a marine mammal during the course of commercial fishing operations?

In accordance with the MMPA (16 U.S.C. 1387(e)) and 50 CFR 229.6, any vessel owner or operator, or gear owner or operator (in the case of non-vessel fisheries), participating in a fishery listed on the LOF must report to NMFS all incidental mortalities and injuries of marine mammals that occur during commercial fishing operations, regardless of the category in which the fishery is placed (I, II, or III) within 48 hours of the end of the fishing trip or, in the case of non-vessel fisheries, fishing activity. “Injury” is defined in 50 CFR 229.2 as a wound or other physical harm. In addition, any animal that ingests fishing gear or any animal that is released with fishing gear entangling, trailing, or perforating any part of the body is considered injured, regardless of the presence of any wound or other evidence of injury, and must be reported. Mortality/injury reporting forms and instructions for submitting forms to NMFS can be downloaded from: http://www.nmfs.noaa.gov/pr/pdfs/interactions/mmap_reporting_form.pdf or by contacting the appropriate Regional office (see ADDRESSES). Forms may be faxed directly to the NMFS Office of Protected Resources at 301-713-4060 or 301-713-0376. Reporting requirements and procedures can be found in 50 CFR 229.6.

Am I required to take an observer aboard my vessel?

Individuals participating in a Category I or II fishery are required to accommodate an observer aboard their vessel(s) upon request from NMFS. MMPA section 118 states that the Secretary is not required to place an observer on a vessel if the facilities for quartering an observer or performing observer functions are inadequate or unsafe; thereby authorizing the exemption of vessels too small to accommodate an observer from this requirement. However, vessels will not be exempted from observer requirements regardless of their size, for U.S. Atlantic Ocean, Caribbean, or Gulf of Mexico large pelagics longline vessels operating in special areas designated by the Pelagic Longline Take Reduction Plan implementing regulations (50 CFR 229.36(d)). Observer requirements can be found in 50 CFR 229.7.

Am I required to comply with any marine mammal take reduction plan regulations?

Table 4 in this rule provides a list of fisheries affected by TRPs and TRTs. TRP regulations can be found at 50 CFR 229.30 through 229.37. A description of each TRT and copies of each TRP can be found at: http://www.nmfs.noaa.gov/pr/interactions/trt/. It is the responsibility of fishery participants to comply with applicable take reduction regulations.

Where can I find more information about the LOF and the MMAP?

Information regarding the LOF and the Marine Mammal Authorization Program, including registration procedures and forms, current and past LOFs, information on each Category I and II fishery, observer requirements, and marine mammal mortality/injury reporting forms and submittal procedures, may be obtained at: http://www.nmfs.noaa.gov/pr/interactions/lof/, or from any NMFS Regional Office at the addresses listed below:

NMFS, Greater Atlantic Regional Fisheries Office, 55 Great Republic Drive, Gloucester, MA 01930-2298, Attn: Allison Rosner;

NMFS, Southeast Region, 263 13th Avenue South, St. Petersburg, FL 33701, Attn: Jessica Powell;

NMFS, West Coast Region, Long Beach Office, 501 W. Ocean Blvd., Suite 4200, Long Beach, CA 90802-4213, Attn: Elizabeth Petras;

NMFS, West Coast Region, Seattle Office, 7600 Sand Point Way NE., Seattle, WA 98115, Attn: Brent Norberg, Protected Resources Division;

NMFS, Alaska Region, Protected Resources, P.O. Box 22668, 709 West 9th Street, Juneau, AK 99802, Attn: Kim Rivera; or

NMFS, Pacific Islands Regional Office, Protected Resources Division, 1845 Wasp Blvd., Building 176, Honolulu, HI 96818, Attn: Nancy Young.

Sources of Information Reviewed for the 2015 LOF

NMFS reviewed the marine mammal incidental mortality and serious injury information presented in the SARs for all fisheries to determine whether changes in fishery classification are warranted. The SARs are based on the best scientific information available at the time of preparation, including the level of mortality and serious injury of marine mammals that occurs incidental to commercial fishery operations and the PBR levels of marine mammal stocks. The information contained in the SARs is reviewed by regional Scientific Review Groups (SRGs) representing Alaska, the Pacific (including Hawaii), and the U.S. Atlantic, Gulf of Mexico, and Caribbean. The SRGs were created by the MMPA to review the science that informs the SARs, and to advise NMFS on marine mammal population status, trends, and stock structure, uncertainties in the science, research needs, and other issues.

NMFS also reviewed other sources of new information, including marine mammal stranding data, observer program data, fisher self-reports through the Marine Mammal Authorization Program, reports to the SRGs, conference papers, FMPs, and ESA documents.

The LOF for 2015 was based on, among other things, information provided in the NEPA and ESA documents analyzing authorized high seas fisheries; stranding data; fishermen self-reports through the MMAP; and SARs, primarily the 2013 SARs, which are generally based on data from 2007-2011. The final SARs referenced in this LOF include: 2007 (73 FR 21111, April 18, 2008), 2008 (74 FR 19530, April 29, 2009), 2009 (75 FR 12498, March 16, 2010), 2010 (76 FR 34054, June 10, 2011), 2011 (77 FR 29969, May 21, 2012), and 2012 (78 FR 19446, April, 1 2013), and 2013 (79 FR 49053, August 19, 2014). The SARs are available at: http://www.nmfs.noaa.gov/pr/sars/.

Comments and Responses

NMFS received four comment letters on the proposed LOF for 2015 (79 FR 50589, August 25, 2014). Comments were received from the Center for Biological Diversity (CBD), Hawaii Department of Land and Natural Resources (DLNR), Hawaii Longline Association (HLA), and Oceana. Comments on issues outside of the scope of the LOF were noted, but generally without response.

General Comments

Comment 1: CBD states that the List of Fisheries is the first step in fisheries' registration and authorization and asks NMFS to re-examine its practice of registering and authorizing fisheries under section 118 without also authorizing take of threatened and endangered marine mammals under section 101(a)(5)(E).

Response: The List of Fisheries categorizes each commercial fishery based on the definitions of Category I, II, and III fisheries set forth at 50 CFR 229.2. Publication of the List of Fisheries does not authorize take of threatened or endangered marine mammals incidental to commercial fishing. Under section 101(a)(5)(E) of the MMPA, NMFS issues permits for the incidental taking of threatened or endangered species listed under the Endangered Species Act, if it can be determined that (1) mortality and serious injury incidental to commercial fisheries would have a negligible impact on the affected species or stock, (2) a recovery plan for that species or stock has been developed or is being developed, and (3) where required under section 118, a monitoring program has been established, vessels are registered, and a take reduction plan has been developed or is being developed. NMFS publishes a separate list of fisheries that have met these conditions in the Federal Register. Participants in fisheries that are not included on that list remain subject to the ESA prohibition against taking marine mammals from endangered or threatened stocks.

Comments on Commercial Fisheries in the Pacific Ocean

Comment 2: HLA contends that the Hawaii-based deep-set longline fishery does not interact with Main Hawaiian Islands (MHI) insular false killer whales. HLA commented that there has never been a documented interaction between the fishery and an animal from the MHI insular stock, and there are no data or other scientific information to support attribution of MHI insular false killer whale interactions to the deep-set fishery. HLA opposes including the stock on the list of marine mammals killed or injured in the deep-set fishery.

Response: NMFS determines which species or stocks are included as incidentally killed or injured in a fishery by annually reviewing the information presented in the current stock assessment reports (SARs), among other relevant sources. The SARs are based on the best available scientific information and provide the most current and inclusive information on each stock, including range, abundance, PBR, and level of interaction with commercial fishing operations. The LOF does not separately evaluate the data and calculations contained within the SARs.

The 2015 LOF is based on the 2013 SARs, which report fishery interactions from 2007-2011. During that time period, observers recorded one interaction with an unidentified blackfish (i.e., identified as either a short-finned pilot whale or a false killer whale) within the overlap zone shared by pelagic and MHI insular false killer whales (40-140 km from the main Hawaiian Islands). Based on NMFS' proration models (for blackfish and for false killer whales of unknown stock identity), and an expansion of observed interactions to fleet-wide estimates, NMFS estimates a 5-year average mortality and serious injury level of 0.1 MHI insular false killer whales per year incidental to the Hawaii-based deep-set longline fishery from 2007-2011 (Carretta et al., 2014).

NMFS is retaining the stock on the list of marine mammal stocks incidentally killed or injured in the Hawaii deep-set longline fishery. For a more complete analysis of the methodology for determining mortality and serious injury of MHI insular false killer whales, the commenter is referred to the 2013 SAR.

Comment 3: HLA opposes the continued inclusion of short-finned pilot whales on the list of species killed or injured in the Hawaii-based shallow-set longline fishery because it is not supported by the available data. NMFS has included the species because of a single interaction on the high seas involving an unidentified cetacean that “may have” been a short-finned pilot whale. There have been no confirmed short-finned pilot whale interactions in the shallow-set fishery. HLA states that in the absence of data confirming that the fishery is interacting with short-finned pilot whales, NMFS may not add the species to the list of species or stocks that are incidentally killed or injured by the fishery.

Response: The 2013 SAR for the Hawaii stock of short-finned pilot whales states that two unidentified cetaceans, known to be either false killer whales or short-finned pilot whales (i.e., “blackfish”), were observed seriously injured in the shallow-set longline fishery on the high seas from 2007-2011 (Carretta et al., 2014). When the species of a blackfish cannot be positively identified, NMFS prorates the interaction to each species based on distance from shore (McCracken, 2010). Until all animals that are taken can be identified to either species (e.g., using photos, tissue samples), this prorating approach constitutes the best available information and ensures that potential impacts to all species and stocks are assessed. Based on this approach, the estimated average annual mortality and serious injury of short-finned pilot whales in the fishery on the high seas from 2007-2011 is 0.1 (Carretta et al., 2014). The Western Pacific Pelagic longline (HI shallow-set) fishery is the high seas component of the HI shallow-set longline fishery. Because the fishery operating in U.S. waters and the high seas component of the fishery pose the same risk to marine mammals, NMFS maintains identical lists of marine mammals killed or injured in the fisheries. Therefore, NMFS is retaining short-finned pilot whales on the list of species or stocks that are incidentally killed or injured by the fishery.

Comment 4: HLA commented that pygmy or dwarf sperm whales should not be included in the list of species killed or injured in the Hawaii shallow-set longline fishery, because the MMPA requires NMFS to list the species in the LOF that are killed or seriously injured by a fishery. HLA cites the 2013 SAR, which reports a single interaction with a pygmy or dwarf sperm whale in 2008 that was classified as a non-serious injury.

Response: As described in the preamble to this final rule and in the MMPA implementing regulations (50 CFR 299.8(b)(2)), the LOF includes a list of marine mammal species or stocks incidentally killed or injured in each commercial fishery. While fishery classifications on the LOF are determined via the tier analysis process, which, as described in the preamble to the proposed LOF, evaluates the level of mortality and serious injury of marine mammals relative to the stocks' PBR levels, the list of species and/or stocks killed or injured is more inclusive, and also includes those that have been non-seriously injured. Therefore, it is appropriate to include Kogia species whale (pygmy or dwarf sperm whale) in the list for the Hawaii shallow-set longline fishery, given the documented non-serious injury in 2008 (Carretta et al., 2014).

Comment 5: HLA notes that for fisheries that operate both in the U.S. EEZ and on the high seas, marine mammal species for which an interaction has occurred in either the EEZ or the high seas are included on the lists of species killed or injured in both the EEZ and the high seas (i.e., on both Tables 1 or 2 and Table 3). This results in a mistaken implication that a given fishery may interact with a certain species in one geographic area (e.g., within the EEZ) when that fishery has only been observed to interact with the species in another geographic area (e.g., on the high seas). HLA requests that NMFS correct the LOF to only attribute species interactions in transboundary fisheries to those geographic regions where interactions are actually observed. This change would not result in underreporting of species killed or injured, but would avoid the arbitrary result of takes being attributed to fisheries in areas in which no take has ever been observed.

Response: As described in the preamble, NMFS has included high seas fisheries in Table 3 of the LOF since 2009. Several fisheries operate in both U.S. waters and on the high seas, creating some overlap between the fisheries listed in Tables 1 and 2 and those in Table 3. In these cases, the high seas component of the fishery is not considered a separate fishery, but an extension of a fishery operating within U.S. waters. For these fisheries, the lists of species and/or stocks killed or injured in Table 3 are identical to their Table 1 or 2 counterparts, except for those species or stocks with distributions known to occur on only one side of the EEZ boundary. Because the fisheries and the marine mammal lists are the same, takes of these animals are not being attributed to one geographic area or the other, even when that information may be available. This parallel list structure is explained in the footnotes for each table.

Comment 6: CBD recommends that NMFS conduct a Tier 2 analysis for the HI crab trap fishery because the total fishery-related mortality and serious injury (M/SI) of Central North Pacific (CNP) humpback whales (7.45 per year, as cited in Allen and Angliss, 2013; or 9.35 per year, as cited in NMFS' draft Negligible Impact Determination (79 FR 33726, June 12, 2014) exceeds 10% of the stock's PBR level. Further, CBD recommends that NMFS reclassify the HI crab trap fishery as Category II because reported entanglements of CNP humpback whales likely underestimate actual entanglements, and M/SI in the fishery likely exceeds 1% of the stock's PBR level. Given that the HI crab trap's 5-year annual average M/SI (0.55/yr) based on reported entanglements is just barely below 1% of PBR, if only one CNP humpback whale entanglement went unreported, M/SI would exceed 1% of PBR, necessitating a Category II classification.

Response: The level of commercial fishery-related M/SI of CNP humpback whales evaluated in the proposed LOF (1.1/year) was based on the number of confirmed commercial fishery-related M/SI presented in the draft 2013 Alaska SAR (0.55 from observer data in Alaska (0.40) and Hawaii (0.15); Allen and Angliss, 2013), plus unpublished values for M/SI attributed to the HI crab trap fishery (0.55). Using these values, a Tier 1 analysis indicated total commercial fishery-related M/SI was less than 10% of PBR, so a Tier 2 analysis was not necessary.

The commenter cites two alternative values for total commercial fisheries-related M/SI for CNP humpback whales. The first, 7.45 M/SI per year, is also from Allen and Angliss (2013), but includes not only the 0.55 M/SI per year described above from observer data in Alaska and Hawaii fisheries, but also 2.15 and 4.75 M/SI per year from Alaska and Hawaii stranding response networks, respectively. The interactions reported from stranding networks and responses cannot or have not been confirmed to be from commercial fisheries, and are thus not appropriate to be included in the tier analysis.

The second alternative M/SI value cited by the commenter, 9.35 M/SI per year, is described in NMFS' draft Negligible Impact Determination for CNP humpbacks, Hawaii sperm whales, and MHI insular false killer whales. The page of the NID cited by the commenter (p. 38) notes that this value includes both commercial and recreational takes. The value of 9.35 M/SI per year is not appropriate to include in the LOF tier analysis, which focuses exclusively on M/SI in commercial fisheries. If, in the future, the responsible fishery or fisheries involved in the interactions can be identified and M/SI attributed to commercial fisheries, they will be considered in future tier analyses. Effort is ongoing in both regions to identify fisheries from the entangling gear.

Although we do not accept the accuracy of the commenter's values, we find that even if we apply them to the tier analysis the Category III classification remains unchanged. In both cases, total fisheries-related M/SI would exceed 10% of PBR (7.45/61.2 is 12.1% of PBR, and 9.35/61.2 is 15.3% of PBR). A Tier 2 analysis finds that the HI crab trap fishery's 5-year average M/SI from 2007-2011 is 0.55 per year, which is 0.9% of the stock's PBR. This is less than 1% of the stock's PBR level, so a Category III classification is warranted. At this time, we cannot speculate on the likely impacts of unreported or unobserved interactions, and instead rely on the data described above.

Comment 7: DLNR provided information regarding measures of participation in various fisheries, including that the State of Hawaii does not issue fishery-specific licenses for commercial fisheries. DLNR commented that it may be misleading to list in the LOF the number of licensed commercial fishers who reported using the gear type at least once during the fishing year period, without considering how many times that person used the gear.

Response: Section 118(c)(1) of the Marine Mammal Protection Act states that the Secretary shall include “the approximate number of vessels or persons actively involved in, each such fishery.” NMFS acknowledges that the Hawaii commercial fishing license is not specific to a fishery or gear type, and that the state-reported estimation of vessels/persons reflects the number of licensed fishermen who reported using the gear at least once during the fishing year period. The estimated number of vessels or persons column is intended to provide the best available approximation of active participation in the fishery for descriptive purposes and will not be used in determining current or future management of fisheries or observer coverage designations, if applicable.

Comment 8: DLNR commented that several fisheries managed by DLNR pose little to no risk to marine mammals, including the Hawaii Kona crab loop net fishery, Hawaii fish pond, Hawaii handpick, and Hawaii lobster diving fisheries. In these cases, DLNR urges NMFS to make it abundantly clear that there is a high degree of certainty that these fisheries pose minimal risk to marine mammals, and urges NMFS to delineate clear criteria with respect to when a commercial fishery should be removed from the LOF.

Response: NMFS recognizes that the fisheries referenced by DAR have a remote likelihood of incidental mortality or serious injury of marine mammals and maintains their classification as Category III on the Final LOF for 2015. The LOF is a complete list of all U.S. commercial fisheries. Fisheries are not removed from the LOF based on their posing a minimal risk to marine mammals. Instead, fisheries are removed from the LOF when there are no active permit/license holders, the gear is no longer authorized and permits are no longer given, or when a name change incorporates the fishery under a different name on the LOF.

Comment 9: DLNR supported several proposed changes to the LOF, including the addition of the Hawaii aquarium collecting fishery, removal of the Hawaii lobster tangle net fishery, removal of Hawaii charter vessel fishery, splitting of the Hawaii troll fishery into the troll and rod and reel fisheries, addition of the Central North Pacific stock of humpback whale to the list of species killed or injured in the Hawaii crab trap fishery, and removal of the Hawaiian monk seal from the list of species killed or injured in the Hawaii lobster trap fishery. DLNR also provided a description of the Hawaii aquarium collecting fishery.

Response: NMFS appreciates DLNR's support and collaboration in developing these changes. NMFS is finalizing the changes mentioned by the commenter, as proposed. NMFS will also use the information provided by DLNR in the description of the Hawaii aquarium collecting fishery in the fishery's fact sheet, which is being developed for release with a future LOF.

Comment 10: DLNR requested that NMFS continue to work with DLNR to review humpback whale interactions to more fully understand them, to accurately identify the fishery, and to develop possible mitigation measures.

Response: NMFS will continue to consult and work with DLNR to evaluate and address humpback whale entanglements.

Comment 11: Oceana recommends that NMFS add the CA/OR/WA stock of short-finned pilot whales and the Eastern North Pacific stock of gray whales to the list of species and/or stocks incidentally killed or injured in the CA thresher shark/swordfish drift gillnet fishery based on a 2013/2014 fishing season observer report.

Response: To determine which species and stocks are included as incidentally killed or injured in a fishery, NMFS annually reviews the information presented in the current SARs. The SARs are based upon the best available scientific information and provide the most current and inclusive information on each stock's PBR level and level of interaction with commercial fishing operations. The best available scientific information used in the SARs reviewed for the 2015 LOF generally summarizes data from 2007-2011. NMFS also reviews other sources of new information, including injury determination reports, bycatch estimation reports, observer data, logbook data, stranding data, disentanglement network data, fisher self-reports (i.e. MMPA reports), and anecdotal reports from that time period. The observed interactions referenced by the commenter will be evaluated in a future LOF.

Comments on Commercial Fisheries in the Atlantic Ocean, Gulf of Mexico, and Caribbean

Comment 12: CBD recommends that NMFS add the Gulf of Maine stock of humpback whales to the list of species/stocks incidentally killed or injured in the Southeastern U.S. Atlantic shark gillnet fishery based on a March 2012 self-report.

Response: The humpback whale entanglement in March 2012 occurred in a gillnet targeting smooth dogfish (also known as smooth hound) approximately two miles offshore of Hatteras, North Carolina. The smooth dogfish gillnet fishery is included in the larger Category I Mid-Atlantic Gillnet fishery, which already lists the Gulf of Maine stock of humpback whales as a marine mammal stock that is incidentally killed or injured in this fishery (see: http://www.nmfs.noaa.gov/pr/pdfs/fisheries/lof2012/midatlantic_gillnet.pdf). Therefore, we are not adding the Gulf of Maine humpback whale stock to the Southeastern U.S. Atlantic shark gillnet fishery.

Comments on Commercial Fisheries in the High Seas

Comment 13: CBD recommends that the Pacific Highly Migratory Species (HMS) drift gillnet fishery be listed as Category I because it includes an extension of the Category I CA thresher shark/swordfish drift gillnet (≥14 in mesh) fishery. CBD also recommends that NMFS revise the number of HSFCA permits based on a 2013 biological opinion that reports no observed drift gillnet effort on the high seas since 2001 (NMFS, 2013).

Response: NMFS agrees that when the CA thresher shark/swordfish drift gillnet (≥14 in mesh) fishery was reclassified as Category I on Table 1 in 2013, the Pacific HMS drift gillnet fishery should have also been elevated to Category I in Table 3 because it is an extension of the Table 1 fishery. Therefore, NMFS corrects this administrative error and clarifies that the Pacific HMS drift gillnet is a Category I fishery. NMFS finds no error in the number of HSFCA permits listed on Table 3. As stated in the preamble, HSFCA permits are valid for five years, during which time FMPs can change. Therefore, some vessels/participants may possess valid HSFCA permits without the ability to fish under the permit because it was issued for a gear type that is no longer authorized under the most current FMP. For this reason, the number of HSFCA permits displayed in Table 3 is likely higher than the actual U.S. fishing effort on the high seas.

Summary of Changes From the Proposed Rule

NMFS corrects an administrative error and elevates the Pacific HMS drift gillnet fishery from Category II to Category I. As an extension of the Category I CA thresher shark/swordfish drift gillnet (≥14 in mesh) fishery, Pacific HMS should have been moved to Category I in 2013 when the CA thresher shark/swordfish drift gillnet (≥14 in mesh) fishery was reclassified.

Summary of Changes to the LOF for 2015

The following summarizes changes to the LOF for 2015, including the fisheries listed in the LOF, the estimated number of vessels/persons in a particular fishery, and the species and/or stocks that are incidentally killed or injured in a particular fishery. As described above (see “Summary of Changes From the Proposed Rule”), the LOF for 2015 corrects an administrative error and moves the Pacific HMS drift gillnet fishery to Category I. Additionally, NMFS adds 7 Category III fisheries to the LOF and removes 6 fisheries from the LOF. The LOF for 2015 does not include any other changes to fishery classifications or to fisheries that are subject to a take reduction plan. NMFS makes changes to the list of species and/or stocks killed or injured in certain fisheries and the estimated number of vessels/persons in certain fisheries, as well as certain administrative changes. The classifications and definitions of U.S. commercial fisheries for 2015 are identical to those provided in the LOF for 2014 with the exception of those changes discussed below. State and regional abbreviations used in the following paragraphs include: AK (Alaska), CA (California), DE (Delaware), FL (Florida), GMX (Gulf of Mexico), HI (Hawaii), MA (Massachusetts), ME (Maine), NC (North Carolina), NY (New York), OR (Oregon), RI (Rhode Island), SC (South Carolina), VA (Virginia), WA (Washington), and WNA (Western North Atlantic).

Commercial Fisheries in the Pacific Ocean

Addition of Fisheries

NMFS adds “HI aquarium collecting” as a Category III fishery.

Removal of Fisheries

NMFS removes the following Category III fisheries from the LOF: “OR salmon ranch,” “WA herring brush weir,” “WA herring spawn on kelp,” “CA abalone,” “HI lobster tangle net,” and “HI charter vessel.”

Fishery Name and Organizational Changes and Clarification

NMFS renames the Category II “WA coastal Dungeness crab pot/trap” fishery to “WA coastal Dungeness crab pot.”

NMFS renames the Category III “WA/OR North Pacific halibut longline/setline” to the “WA/OR Pacific halibut longline.”

NMFS renames the Category III “Coastwide scallop dredge” fishery to the “Alaska scallop dredge.”

NMFS renames the Category III “OR/CA hagfish pot or trap” to the “WA/OR/CA hagfish pot.”

NMFS renames the Category I “HI deep-set (tuna target) longline/set line” fishery to “HI deep-set longline.”

NMFS renames the Category II “HI shallow-set (swordfish target) longline/set line” fishery to “HI shallow-set longline.”

NMFS renames the Category III “HI opelu/akule net” fishery to “HI lift net.”

NMFS renames Category III “HI hukilau net” fishery to “HI seine net.”

NMFS renames the Category III “HI vertical longline” fishery to “HI vertical line.”

NMFS renames the Category III “HI MHI deep-sea bottomfish handline” fishery to “HI bottomfish handline.”

NMFS renames the Category III “HI tuna handline” fishery to “HI pelagic handline.”

NMFS splits the Category III “CA coonstripe shrimp, rock crab, tanner crab pot or trap” fishery into two Category III fisheries, “CA/OR coonstripe shrimp pot” and “CA rock crab pot”, and eliminates the tanner crab component of the pot fishery.

NMFS splits the Category III “HI trolling, rod and reel” fishery into two separate Category III fisheries, the “HI troll” and “HI rod and reel” fisheries.

Number of Vessels/Persons

NMFS updates the estimated number of vessels/persons in the Pacific Ocean (Table 1) as follows. Fisheries are labeled with their name on the 2015 LOF:

Category | Fishery | Number of vessels/persons (final 2014 LOF) | Number of vessels/persons (final 2015 LOF)
I | HI deep-set longline | 129 | 128
II | AK Bristol Bay salmon drift gillnet | 1,863 | 1,862
II | AK Bristol Bay salmon set gillnet | 982 | 979
II | AK Cook Inlet salmon set gillnet | 738 | 736
II | AK Peninsula/Aleutian Islands salmon drift gillnet | 114 | 113
II | AK Yakutat salmon set gillnet | 167 | 168
II | AK Cook Inlet salmon purse seine | 82 | 83
II | AK Kodiak salmon purse seine | 379 | 376
II | AK Bering Sea, Aleutian Islands flatfish trawl | 34 | 32
II | AK Bering Sea, Aleutian Islands pollock trawl | 95 | 102
II | AK Bering Sea, Aleutian Islands rockfish trawl | 10 | 17
II | HI shallow-set longline | 20 | 18
II | American Samoa longline | 24 | 25
II | HI shortline | 11 | 6
III | AK Kuskokwim, Yukon, Norton Sound, Kotzebue salmon gillnet | 1,702 | 1,778
III | AK miscellaneous finfish set gillnet | 2 | 54
III | AK Prince William Sound salmon set gillnet | 30 | 29
III | AK roe herring and food/bait herring gillnet | 990 | 920
III | HI inshore gillnet | 36 | 42
III | AK Southeast salmon purse seine | 415 | 315
III | AK miscellaneous finfish beach seine | 1 | 2
III | AK roe herring and food/bait herring beach seine | 6 | 10
III | AK roe herring and food/bait herring purse seine | 367 | 356
III | AK salmon purse seine (excluding salmon purse seine fisheries listed as Category II) | 935 | 936
III | HI lift net | 22 | 21
III | HI throw net, cast net | 29 | 20
III | HI seine net | 26 | 21
III | AK North Pacific halibut, AK bottom fish, WA/OR/CA albacore, groundfish, bottom fish, CA halibut non-salmonid troll fisheries | 1,320 (120 AK) | 1,320 (180 AK)
III | AK salmon troll | 2,008 | 1,908
III | AK Bering Sea, Aleutian Islands Pacific cod longline | 154 | 45
III | AK Bering Sea, Aleutian Islands rockfish longline | 0 | 3
III | AK Bering Sea, Aleutian Islands Greenland turbot longline | 36 | 4
III | AK Bering Sea, Aleutian Islands sablefish longline | 28 | 22
III | AK Gulf of Alaska halibut longline | 1,302 | 855
III | AK Gulf of Alaska Pacific cod longline | 107 | 92
III | AK Gulf of Alaska rockfish longline | 0 | 25
III | AK Gulf of Alaska sablefish longline | 291 | 295
III | AK halibut longline/set line (state and Federal waters) | 2,280 | 2,197
III | AK octopus/squid longline | 2 | 3
III | AK state-managed waters longline/setline (including sablefish, rockfish, lingcod, and miscellaneous finfish) | 1,323 | 464
III | HI kaka line | 17 | 24
III | HI vertical line | 9 | 6
III | AK Bering Sea, Aleutian Islands Atka mackerel trawl | 9 | 13
III | AK Bering Sea, Aleutian Islands Pacific cod trawl | 93 | 72
III | AK Gulf of Alaska flatfish trawl | 41 | 36
III | AK Gulf of Alaska Pacific cod trawl | 62 | 55
III | AK Gulf of Alaska pollock trawl | 62 | 67
III | AK Gulf of Alaska rockfish trawl | 34 | 43
III | AK shrimp otter trawl and beam trawl (statewide and Cook Inlet) | 33 | 38
III | AK statewide miscellaneous finfish pot | 243 | 4
III | AK Aleutian Islands sablefish pot | 8 | 4
III | AK Bering Sea, Aleutian Islands Pacific cod pot | 68 | 59
III | AK Bering Sea, Aleutian Islands crab pot | 296 | 540
III | AK Bering Sea sablefish pot | 6 | 2
III | AK Gulf of Alaska crab pot | 389 | 381
III | AK Gulf of Alaska Pacific cod pot | 154 | 128
III | AK Southeast Alaska crab pot | 415 | 41
III | AK Southeast Alaska shrimp pot | 274 | 269
III | AK shrimp pot, except Southeast | 210 | 236
III | HI crab trap | 9 | 7
III | HI fish trap | 9 | 5
III | HI shrimp trap | 4 | 6
III | HI crab net | 6 | 4
III | HI Kona crab loop net | 48 | 35
III | AK octopus/squid handline | 0 | 7
III | American Samoa bottomfish handline | 12 | 14
III | HI aku boat, pole and line | 3 | < 3
III | HI bottomfish handline | 567 | 578
III | HI inshore handline | 378 | 376
III | HI pelagic handline | 459 | 484
III | AK herring spawn on kelp pound net | 411 | 409
III | AK Southeast herring roe/food/bait pound net | 4 | 2
III | AK scallop dredge | 108 (12 AK) | 108 (5 AK)
III | AK clam | 156 | 130
III | AK herring spawn on kelp | 266 | 339
III | AK urchin and other fish/shellfish | 521 | 398
III | HI fish pond | 16 | 5
III | HI handpick | 57 | 58
III | HI lobster diving | 29 | 23
III | HI spearfishing | 143 | 159

List of Species and/or Stocks Incidentally Killed or Injured in the Pacific Ocean

NMFS updates the list of species and/or stocks incidentally killed or injured by fisheries in the Pacific Ocean (Table 1) as follows:

NMFS adds the Central North Pacific stock of humpback whales to the list of species and/or stocks killed or injured in the Category III HI crab trap fishery.

NMFS adds the South Central Alaska stock of northern sea otters to the list of species and/or stocks killed or injured in the Category II AK Cook Inlet salmon set gillnet fishery and the Category III AK Prince William Sound set gillnet fishery.

NMFS adds the Alaska stock of ringed seals to the list of species and/or stocks killed or injured in the Category III AK Bering Sea, Aleutian Islands Pacific cod trawl fishery and the Category III AK Bering Sea, Aleutian Islands Pacific cod longline fishery.

NMFS removes the Hawaiian monk seal from the list of species and/or stocks killed or injured in the Category III HI bottomfish handline fishery (formerly “HI Main Hawaiian Islands deep-sea bottomfish handline”) and the Category III HI lobster trap fishery.

Commercial Fisheries in the Atlantic Ocean, Gulf of Mexico, and Caribbean

Addition of Fisheries

NMFS adds the following Category III fisheries to the LOF: “Gulf of Maine sea urchin dredge,” “Mid-Atlantic blue crab dredge,” “Mid-Atlantic whelk dredge,” and “Mid-Atlantic soft shell clam dredge”.

List of Species and/or Stocks Incidentally Killed or Injured in the Atlantic Ocean, Gulf of Mexico, and Caribbean

NMFS updates the list of marine mammal species and/or stocks incidentally killed or injured in commercial fisheries in the Atlantic, Gulf of Mexico, and Caribbean (Table 2) as follows:

NMFS adds the Canadian East Coast stock of minke whales, the Western North Atlantic stock of Kogia species whale (pygmy or dwarf sperm whale), and the Western North Atlantic stock of false killer whale and removes the Western North Atlantic stock of Northern bottlenose whale on the list of species and/or stocks incidentally killed or injured by the Category I Atlantic Ocean, Caribbean, Gulf of Mexico large pelagics longline fishery.

NMFS adds the Florida stock of West Indian manatee to the list of species and/or stocks incidentally killed or injured by the Category II Southeastern U.S. Atlantic, Gulf of Mexico shrimp trawl fishery.

NMFS adds the Northern South Carolina estuarine system stock of bottlenose dolphins to the list of the species and/or stocks incidentally killed or injured in the Category II Atlantic blue crab trap/pot fishery.

NMFS adds unknown stocks of bottlenose dolphin and renames the Central Florida coastal stock and Northern Florida coastal stocks as “Bottlenose dolphin, unknown stocks” on the list of the species and/or stocks incidentally killed or injured in the Category II Southeastern U.S. Atlantic shark gillnet fishery.

NMFS adds unknown stocks and the Northern North Carolina estuarine system stock of bottlenose dolphin and renames the Southern North Carolina estuarine system stock and the Southern migratory coastal stock as “Bottlenose dolphin, unknown stock” on the list of the species and/or stocks incidentally killed or injured in the Category II North Carolina roe mullet stop net fishery.

NMFS adds two stocks of bottlenose dolphins, Charleston estuarine system and Southern migratory coastal, to the list of the species and/or stocks incidentally killed or injured in the Category II Southeastern U.S. Atlantic, Gulf of Mexico shrimp trawl fishery.

NMFS adds the Northern South Carolina estuarine system stock of bottlenose dolphins to the list of species and/or stocks incidentally killed or injured in the Category III Southeast Atlantic inshore gillnet fishery.

NMFS adds two stocks of bottlenose dolphins, Choctawhatchee Bay and Florida Bay, to the list of species and/or stocks incidentally killed or injured in the Category III Atlantic Ocean, Gulf of Mexico, Caribbean commercial passenger fishing vessel fishery.

NMFS removes the Western North Atlantic stock of gray seal from the list of species and/or stocks incidentally killed or injured in the Category III Gulf of Maine herring and Atlantic mackerel stop seine/weir fishery.

NMFS removes the Western North Atlantic stock of long-finned and short-finned pilot whales from the list of species and/or stocks incidentally killed or injured in the Category I Mid-Atlantic gillnet fishery.

NMFS makes the following typographical corrections to the list of marine mammal species and/or stocks incidentally killed or injured: Remove Northern migratory coastal stock of bottlenose dolphin from the NC roe mullet stop net fishery; add Northern migratory coastal stock of bottlenose dolphin to, and remove Southern North Carolina estuarine system stock of bottlenose dolphin from, the VA pound net fishery; add Gulf of Mexico stock of Gervais beaked whale to the Atlantic Ocean, Caribbean, Gulf of Mexico large pelagics longline; and corrects a stock name listed under the Category III Georgia cannonball jellyfish trawl fishery from “Southern South Carolina/Georgia” stock of bottlenose dolphins to “SC/GA coastal” stock.

Commercial Fisheries on the High Seas

Fishery Name and Organizational Changes and Clarification

NMFS corrects an administrative error and moves the Pacific HMS drift gillnet fishery to Category I. As an extension of the Category I CA thresher shark/swordfish drift gillnet (≥14 in mesh) fishery, Pacific HMS should have been moved to Category I in 2013 when the CA fishery was reclassified.

Addition of Fisheries

NMFS adds the following Category III fisheries to the LOF: “Northwest Atlantic trawl” and “Northwest Atlantic bottom longline.”

Number of Vessels/Persons

NMFS updates the estimated number of HSFCA permits (Table 3) as follows:

Category | Fishery | Number of HSFCA permits (final 2014 LOF) | Number of HSFCA permits (final 2015 LOF)
I | Atlantic Highly Migratory Species Longline | 84 | 83
I | Western Pacific Pelagic (HI Deep-set component) | 124 | 128
II | South Pacific Tuna Fisheries Purse Seine | 40 | 38
II | Western Pacific Pelagic (HI Shallow-set component) | 28 | 18
II | Atlantic Highly Migratory Species Handline/Pole and Line | 3 | 2
II | Pacific Highly Migratory Species Handline/Pole and Line | 46 | 41
II | South Pacific Albacore Troll Handline/Pole and Line | 9 | 8
II | Western Pacific Pelagic Handline/Pole and Line | 5 | 3
II | Atlantic Highly Migratory Species Troll | 4 | 2
II | South Pacific Albacore Troll | 33 | 35
II | South Pacific Tuna Fisheries Troll | 2 | 3
II | Pacific Highly Migratory Species Liners Nei | 3 | 1
III | Pacific Highly Migratory Species Longline | 101 | 100
III | Pacific Highly Migratory Species Purse Seine | 8 | 5
III | Pacific Highly Migratory Species Troll | 262 | 253

List of Species and/or Stocks Incidentally Killed or Injured in High Seas Fisheries

NMFS updates the list of species and/or stocks incidentally killed or injured by fisheries in high seas fisheries (Table 3) as follows:

NMFS adds the Canadian East Coast stock of minke whales, Kogia species whale (pygmy or dwarf sperm whale), Western North Atlantic stock of false killer whales, Gulf of Mexico stock of Risso's dolphins, Gulf of Mexico oceanic stock of killer whales, and Western North Atlantic stock of Pantropical spotted dolphins to the list of species incidentally killed or injured by the Category I Atlantic highly migratory species longline fishery.

List of Fisheries

The following tables set forth the list of U.S. commercial fisheries according to their classification under section 118 of the MMPA. Table 1 lists commercial fisheries in the Pacific Ocean (including Alaska); Table 2 lists commercial fisheries in the Atlantic Ocean, Gulf of Mexico, and Caribbean; Table 3 lists commercial fisheries on the high seas; and Table 4 lists fisheries affected by TRPs or TRTs.

In Tables 1 and 2, the estimated number of vessels or persons participating in fisheries operating within U.S. waters is expressed in terms of the number of active participants in the fishery, when possible. If this information is not available, the estimated number of vessels or persons licensed for a particular fishery is provided. If no recent information is available on the number of participants, vessels, or persons licensed in a fishery, then the number from the most recent LOF is used for the estimated number of vessels or persons in the fishery. NMFS acknowledges that, in some cases, these estimates may be inflations of actual effort, such as for many of the Mid-Atlantic and New England fisheries. However, in these cases, the numbers represent the potential effort for each fishery, given the multiple gear types for which several state permits may allow. Changes made to Mid-Atlantic and New England fishery participants will not affect observer coverage or bycatch estimates, as observer coverage and bycatch estimates are based on vessel trip reports and landings data. Table 1 and 2 serve to provide a description of the fishery's potential effort (state and Federal). If NMFS is able to extract more accurate information on the gear types used by state permit holders in the future, the numbers will be updated to reflect this change. For additional information on fishing effort in fisheries found on Table 1 or 2, contact the relevant regional office (contact information included above in SUPPLEMENTARY INFORMATION).

For high seas fisheries, Table 3 lists the number of valid HSFCA permits currently held. Although this likely overestimates the number of active participants in many of these fisheries, the number of valid HSFCA permits is the most reliable data on the potential effort in high seas fisheries at this time. As noted previously in this rule, the number of HSFCA permits listed in Table 3 for the high seas components of fisheries that also operate within U.S. waters does not necessarily represent additional effort that is not accounted for in Tables 1 and 2. Many vessels holding HSFCA permits also fish within U.S. waters and are included in the number of vessels and participants operating within those fisheries in Tables 1 and 2.

Tables 1, 2, and 3 also list the marine mammal species and/or stocks incidentally killed or injured (seriously or non-seriously) in each fishery based on SARs, injury determination reports, bycatch estimation reports, observer data, logbook data, stranding data, disentanglement network data, fisher self-reports (i.e. MMPA reports), and anecdotal reports. The best available scientific information included in these reports is based on data through 2011. This list includes all species and/or stocks known to be killed or injured in a given fishery but also includes species and/or stocks for which there are anecdotal records of a mortality or injury. Additionally, species identified by logbook entries, stranding data, or fishermen self-reports (i.e., MMPA reports) may not be verified. In Tables 1 and 2, NMFS has designated those species/stocks driving a fishery's classification (i.e., the fishery is classified based on mortalities and serious injuries of a marine mammal stock that are greater than or equal to 50 percent [Category I], or greater than 1 percent and less than 50 percent [Category II], of a stock's PBR) by a “¹” after the stock's name.

In Tables 1 and 2, there are several fisheries classified as Category II that have no recent documented mortalities or serious injuries of marine mammals, or fisheries that did not result in a mortality or serious injury rate greater than 1 percent of a stock's PBR level based on known interactions. NMFS has classified these fisheries by analogy to other Category I or II fisheries that use similar fishing techniques or gear that are known to cause mortality or serious injury of marine mammals, as discussed in the final LOF for 1996 (60 FR 67063, December 28, 1995), and according to factors listed in the definition of a “Category II fishery” in 50 CFR 229.2 (i.e., fishing techniques, gear used, methods used to deter marine mammals, target species, seasons and areas fished, qualitative data from logbooks or fisher reports, stranding data, and the species and distribution of marine mammals in the area). NMFS has designated those fisheries listed by analogy in Tables 1 and 2 by a “²” after the fishery's name.

There are several fisheries in Tables 1, 2, and 3 in which a portion of the fishing vessels cross the EEZ boundary and therefore operate both within U.S. waters and on the high seas. These fisheries, though listed separately between Table 1 or 2 and Table 3, are considered the same fishery on either side of the EEZ boundary. NMFS has designated those fisheries in each table by a “*” after the fishery's name.

Table 1—List of Fisheries—Commercial Fisheries in the Pacific Ocean
Fishery description | Estimated Number of vessels/ persons | Marine mammal species and/or stocks incidentally killed or injured
CATEGORY I
LONGLINE/SET LINE FISHERIES:
HI deep-set longline * ‸ | 128 | Bottlenose dolphin, HI Pelagic. False killer whale, MHI Insular. False killer whale, HI Pelagic.¹ False killer whale, Palmyra Atoll. Pantropical spotted dolphin, HI. Risso's dolphin, HI.
|  | Short-finned pilot whale, HI. Sperm whale, HI. Striped dolphin, HI.
GILLNET FISHERIES:
CA thresher shark/swordfish drift gillnet (≥14 in mesh) * | 19 | Bottlenose dolphin, CA/OR/WA offshore. California sea lion, U.S. Humpback whale, CA/OR/WA. Long-beaked common dolphin, CA. Minke whale, CA/OR/WA. Northern elephant seal, CA breeding. Northern right-whale dolphin, CA/OR/WA.
|  | Pacific white-sided dolphin, CA/OR/WA. Risso's dolphin, CA/OR/WA. Short-beaked common dolphin, CA/OR/WA. Sperm Whale, CA/OR/WA.¹
CATEGORY II
GILLNET FISHERIES:
CA halibut/white seabass and other species set gillnet (>3.5 in mesh) | 50 | California sea lion, U.S. Harbor seal, CA. Humpback whale, CA/OR/WA.¹ Long-beaked common dolphin, CA. Northern elephant seal, CA breeding. Sea otter, CA. Short-beaked common dolphin, CA/OR/WA.
CA yellowtail, barracuda, and white seabass drift gillnet (mesh size ≥3.5 in and <14 in) ² | 30 | California sea lion, U.S. Long-beaked common dolphin, CA. Short-beaked common dolphin, CA/OR/WA.
AK Bristol Bay salmon drift gillnet ² | 1,862 | Beluga whale, Bristol Bay. Gray whale, Eastern North Pacific. Harbor seal, Bering Sea. Northern fur seal, Eastern Pacific. Pacific white-sided dolphin, North Pacific. Spotted seal, AK. Steller sea lion, Western U.S.
AK Bristol Bay salmon set gillnet ² | 979 | Beluga whale, Bristol Bay. Gray whale, Eastern North Pacific. Harbor seal, Bering Sea. Northern fur seal, Eastern Pacific. Spotted seal, AK.
AK Kodiak salmon set gillnet | 188 | Harbor porpoise, GOA.¹ Harbor seal, GOA. Sea otter, Southwest AK. Steller sea lion, Western U.S.
AK Cook Inlet salmon set gillnet | 736 | Beluga whale, Cook Inlet. Dall's porpoise, AK. Harbor porpoise, GOA. Harbor seal, GOA. Humpback whale, Central North Pacific.¹ Sea otter, South Central AK. Steller sea lion, Western U.S.
AK Cook Inlet salmon drift gillnet | 569 | Beluga whale, Cook Inlet. Dall's porpoise, AK. Harbor porpoise, GOA.¹ Harbor seal, GOA. Steller sea lion, Western U.S.
AK Peninsula/Aleutian Islands salmon drift gillnet ² | 162 | Dall's porpoise, AK. Harbor porpoise, GOA. Harbor seal, GOA. Northern fur seal, Eastern Pacific.
AK Peninsula/Aleutian Islands salmon set gillnet ² | 113 | Harbor porpoise, Bering Sea. Steller sea lion, Western U.S.
AK Prince William Sound salmon drift gillnet | 537 | Dall's porpoise, AK. Harbor porpoise, GOA.¹ Harbor seal, GOA. Northern fur seal, Eastern Pacific. Pacific white-sided dolphin, North Pacific. Sea otter, South Central AK. Steller sea lion, Western U.S.¹
AK Southeast salmon drift gillnet | 474 | Dall's porpoise, AK. Harbor porpoise, Southeast AK. Harbor seal, Southeast AK. Humpback whale, Central North Pacific.¹ Pacific white-sided dolphin, North Pacific. Steller sea lion, Eastern U.S.
AK Yakutat salmon set gillnet ² | 168 | Gray whale, Eastern North Pacific. Harbor Porpoise, Southeastern AK. Harbor seal, Southeast AK. Humpback whale, Central North Pacific (Southeast AK).
WA Puget Sound Region salmon drift gillnet (includes all inland waters south of US-Canada border and eastward of the Bonilla-Tatoosh line-Treaty Indian fishing is excluded) | 210 | Dall's porpoise, CA/OR/WA. Harbor porpoise, inland WA.¹ Harbor seal, WA inland.
PURSE SEINE FISHERIES:
AK Cook Inlet salmon purse seine | 83 | Humpback whale, Central North Pacific.¹
AK Kodiak salmon purse seine | 376 | Humpback whale, Central North Pacific.¹
TRAWL FISHERIES:
AK Bering Sea, Aleutian Islands flatfish trawl | 32 | Bearded seal, AK. Gray whale, Eastern North Pacific. Harbor porpoise, Bering Sea. Harbor seal, Bering Sea. Humpback whale, Western North Pacific.¹ Killer whale, AK resident.¹ Killer whale, GOA, AI, BS transient.¹
|  | Northern fur seal, Eastern Pacific. Ringed seal, AK. Ribbon seal, AK. Spotted seal, AK. Steller sea lion, Western U.S.¹ Walrus, AK.
AK Bering Sea, Aleutian Islands pollock trawl | 102 | Bearded Seal, AK. Dall's porpoise, AK. Harbor seal, AK. Humpback whale, Central North Pacific. Humpback whale, Western North Pacific. Northern fur seal, Eastern Pacific. Ribbon seal, AK.
|  | Ringed seal, AK. Spotted seal, AK. Steller sea lion, Western U.S.¹
AK Bering Sea, Aleutian Islands rockfish trawl | 17 | Killer whale, ENP AK resident.¹ Killer whale, GOA, AI, BS transient.¹
POT, RING NET, AND TRAP FISHERIES:
CA spot prawn pot | 28 | Gray whale, Eastern North Pacific. Humpback whale, CA/OR/WA.¹
CA Dungeness crab pot | 570 | Gray whale, Eastern North Pacific. Humpback whale, CA/OR/WA.¹
OR Dungeness crab pot | 433 | Gray whale, Eastern North Pacific. Humpback whale, CA/OR/WA.¹
WA/OR/CA sablefish pot | 309 | Humpback whale, CA/OR/WA.¹
WA coastal Dungeness crab pot | 228 | Gray whale, Eastern North Pacific Humpback whale, CA/OR/WA.¹
LONGLINE/SET LINE FISHERIES:
HI shallow-set longline * ‸ | 18 | Blainville's beaked whale, HI. Bottlenose dolphin, HI Pelagic. False killer whale, HI Pelagic.¹ Humpback whale, Central North Pacific. Kogia spp. whale (Pygmy or dwarf sperm whale), HI. Risso's dolphin, HI.
|  | Short-finned pilot whale, HI. Striped dolphin, HI.
American Samoa longline ² | 25 | Bottlenose dolphin, unknown. Cuvier's beaked whale, unknown. False killer whale, American Samoa. Rough-toothed dolphin, American Samoa. Short-finned pilot whale, unknown.
HI shortline ² | 6 | None documented.
CATEGORY III
GILLNET FISHERIES:
AK Kuskokwim, Yukon, Norton Sound, Kotzebue salmon gillnet | 1,778 | Harbor porpoise, Bering Sea.
AK miscellaneous finfish set gillnet | 54 | Steller sea lion, Western U.S.
AK Prince William Sound salmon set gillnet | 29 | Harbor seal, GOA. Sea otter, South Central AK. Steller sea lion, Western U.S.
AK roe herring and food/bait herring gillnet | 920 | None documented.
CA set gillnet (mesh size <3.5 in) | 304 | None documented.
HI inshore gillnet | 42 | Bottlenose dolphin, HI. Spinner dolphin, HI.
WA Grays Harbor salmon drift gillnet (excluding treaty Tribal fishing) | 24 | Harbor seal, OR/WA coast.
WA/OR herring, smelt, shad, sturgeon, bottom fish, mullet, perch, rockfish gillnet | 913 | None documented.
WA/OR lower Columbia River (includes tributaries) drift gillnet | 110 | California sea lion, U.S. Harbor seal, OR/WA coast.
WA Willapa Bay drift gillnet | 82 | Harbor seal, OR/WA coast. Northern elephant seal, CA breeding.
MISCELLANEOUS NET FISHERIES:
AK Southeast salmon purse seine | 315 | None documented in the most recent 5 years of data.
AK Metlakatla salmon purse seine | 10 | None documented.
AK miscellaneous finfish beach seine | 2 | None documented.
AK miscellaneous finfish purse seine | 2 | None documented.
AK octopus/squid purse seine | 0 | None documented.
AK roe herring and food/bait herring beach seine | 10 | None documented.
AK roe herring and food/bait herring purse seine | 356 | None documented.
AK salmon beach seine | 31 | None documented.
AK salmon purse seine (excluding salmon purse seine fisheries listed as Category II) | 936 | Harbor seal, GOA.
CA anchovy, mackerel, sardine purse seine | 65 | California sea lion, U.S. Harbor seal, CA.
CA squid purse seine | 80 | Long-beaked common dolphin, CA
|  | Short-beaked common dolphin, CA/OR/WA.
CA tuna purse seine * | 10 | None documented.
WA/OR sardine purse seine | 42 | None documented.
WA (all species) beach seine or drag seine | 235 | None documented.
WA/OR herring, smelt, squid purse seine or lampara | 130 | None documented.
WA salmon purse seine | 75 | None documented.
WA salmon reef net | 11 | None documented.
HI lift net | 21 | None documented.
HI inshore purse seine | <3 | None documented.
HI throw net, cast net | 20 | None documented.
HI seine net | 21 | None documented.
DIP NET FISHERIES:
CA squid dip net | 115 | None documented.
WA/OR smelt, herring dip net | 119 | None documented.
MARINE AQUACULTURE FISHERIES:
CA marine shellfish aquaculture | Unknown | None documented.
CA salmon enhancement rearing pen | >1 | None documented.
CA white seabass enhancement net pens | 13 | California sea lion, U.S.
HI offshore pen culture | 2 | None documented.
WA/OR salmon net pens | 14 | California sea lion, U.S. Harbor seal, WA inland waters.
TROLL FISHERIES:
AK North Pacific halibut, AK bottom fish, WA/OR/CA albacore, groundfish, bottom fish, CA halibut non-salmonid troll fisheries * | 1,320 (180 AK) | None documented.
AK salmon troll | 1,908 | Steller sea lion, Eastern U.S. Steller sea lion, Western U.S.
American Samoa tuna troll | 7 | None documented.
CA/OR/WA salmon troll | 4,300 | None documented.
HI troll | 1,755 | Pantropical spotted dolphin, HI.
HI rod and reel | 221 | None documented.
Commonwealth of the Northern Mariana Islands tuna troll | 40 | None documented.
Guam tuna troll | 432 | None documented.
LONGLINE/SET LINE FISHERIES:
AK Bering Sea, Aleutian Islands Pacific cod longline | 45 | Dall's Porpoise, AK. Northern fur seal, Eastern Pacific. Ringed seal, AK.
AK Bering Sea, Aleutian Islands rockfish longline | 3 | None documented.
AK Bering Sea, Aleutian Islands Greenland turbot longline | 4 | Killer whale, AK resident.
AK Bering Sea, Aleutian Islands sablefish longline | 22 | None documented.
AK Gulf of Alaska halibut longline | 855 | None documented.
AK Gulf of Alaska Pacific cod longline | 92 | Steller sea lion, Western U.S.
AK Gulf of Alaska rockfish longline | 25 | None documented.
AK Gulf of Alaska sablefish longline | 295 | Sperm whale, North Pacific.
AK halibut longline/set line (state and Federal waters) | 2,197 | None documented in the most recent 5 years of data.
AK octopus/squid longline | 3 | None documented.
AK state-managed waters longline/setline (including sablefish, rockfish, lingcod, and miscellaneous finfish) | 464 | None documented.
WA/OR/CA groundfish, bottomfish longline/set line | 367 | Bottlenose dolphin, CA/OR/WA offshore.
WA/OR Pacific halibut longline | 350 | None documented.
CA pelagic longline | 1 | None documented in the most recent 5 years of data.
HI kaka line | 24 | None documented.
HI vertical line | 6 | None documented.
TRAWL FISHERIES:
AK Bering Sea, Aleutian Islands Atka mackerel trawl | 13 | Ribbon seal, AK. Steller sea lion, Western U.S.
AK Bering Sea, Aleutian Islands Pacific cod trawl | 72 | Ringed seal, AK. Steller sea lion, Western U.S.
AK Gulf of Alaska flatfish trawl | 36 | Northern elephant seal, North Pacific.
AK Gulf of Alaska Pacific cod trawl | 55 | Steller sea lion, Western U.S.
AK Gulf of Alaska pollock trawl | 67 | Dall's porpoise, AK. Fin whale, Northeast Pacific. Northern elephant seal, North Pacific. Steller sea lion, Western U.S.
AK Gulf of Alaska rockfish trawl | 43 | None documented.
AK food/bait herring trawl | 4 | None documented.
AK miscellaneous finfish otter/beam trawl | 282 | None documented.
AK shrimp otter trawl and beam trawl (statewide and Cook Inlet) | 38 | None documented.
AK state-managed waters of Cook Inlet, Kachemak Bay, Prince William Sound, Southeast AK groundfish trawl | 2 | None documented.
CA halibut bottom trawl | 53 | None documented.
WA/OR/CA shrimp trawl | 300 | None documented.
WA/OR/CA groundfish trawl | 160-180 | California sea lion, U.S. Dall's porpoise, CA/OR/WA. Harbor seal, OR/WA coast. Northern fur seal, Eastern Pacific. Pacific white-sided dolphin, CA/OR/WA. Steller sea lion, Eastern U.S.
POT, RING NET, AND TRAP FISHERIES:
AK statewide miscellaneous finfish pot | 4 | None documented.
AK Aleutian Islands sablefish pot | 4 | None documented.
AK Bering Sea, Aleutian Islands Pacific cod pot | 59 | None documented.
AK Bering Sea, Aleutian Islands crab pot | 540 | Gray whale, Eastern North Pacific.
AK Bering Sea sablefish pot | 2 | None documented.
AK Gulf of Alaska crab pot | 381 | None documented.
AK Gulf of Alaska Pacific cod pot | 128 | Harbor seal, GOA.
AK Southeast Alaska crab pot | 41 | Humpback whale, Central North Pacific (Southeast AK).
AK Southeast Alaska shrimp pot | 269 | Humpback whale, Central North Pacific (Southeast AK).
AK shrimp pot, except Southeast | 236 | None documented.
AK octopus/squid pot | 26 | None documented.
AK snail pot | 1 | None documented.
CA/OR coonstripe shrimp pot | 10 | Gray whale, Eastern North Pacific Harbor seal, CA.
CA rock crab pot | 150 | Gray whale, Eastern North Pacific Harbor seal, CA.
CA spiny lobster | 198 | Gray whale, Eastern North Pacific.
WA/OR/CA hagfish pot | 54 | None documented.
WA/OR shrimp pot/trap | 254 | None documented.
WA Puget Sound Dungeness crab pot/trap | 249 | None documented.
HI crab trap | 7 | Humpback whale, Central North Pacific.
HI fish trap | 5 | None documented.
HI lobster trap | <3 | None documented in recent years.
HI shrimp trap | 6 | None documented.
HI crab net | 4 | None documented.
HI Kona crab loop net | 35 | None documented.
HOOK-AND-LINE, HANDLINE, AND JIG FISHERIES:
AK miscellaneous finfish handline/hand troll and mechanical jig | 456 | None documented.
AK North Pacific halibut handline/hand troll and mechanical jig | 180 | None documented.
AK octopus/squid handline | 7 | None documented.
American Samoa bottomfish | 14 | None documented.
Commonwealth of the Northern Mariana Islands bottomfish | 28 | None documented.
Guam bottomfish | >300 | None documented.
HI aku boat, pole, and line | <3 | None documented.
HI bottomfish handline | 578 | None documented in recent years.
HI inshore handline | 376 | None documented.
HI pelagic handline | 484 | None documented.
WA groundfish, bottomfish jig | 679 | None documented.
Western Pacific squid jig | <3 | None documented.
HARPOON FISHERIES:
CA swordfish harpoon | 30 | None documented.
POUND NET/WEIR FISHERIES:
AK herring spawn on kelp pound net | 409 | None documented.
AK Southeast herring roe/food/bait pound net | 2 | None documented.
HI bullpen trap | <3 | None documented.
BAIT PENS:
WA/OR/CA bait pens | 13 | California sea lion, U.S.
DREDGE FISHERIES:
Alaska scallop dredge | 108 (5 AK) | None documented.
DIVE, HAND/MECHANICAL COLLECTION FISHERIES:
AK abalone | 0 | None documented.
AK clam | 130 | None documented.
AK Dungeness crab | 2 | None documented.
AK herring spawn on kelp | 339 | None documented.
AK urchin and other fish/shellfish | 398 | None documented
CA sea urchin | 583 | None documented.
HI black coral diving | <3 | None documented.
HI fish pond | 5 | None documented.
HI handpick | 58 | None documented.
HI lobster diving | 23 | None documented.
HI spearfishing | 159 | None documented.
WA/CA kelp | 4 | None documented.
WA/OR sea urchin, other clam, octopus, oyster, sea cucumber, scallop, ghost shrimp hand, dive, or mechanical collection | 637 | None documented.
WA shellfish aquaculture | 684 | None documented.
COMMERCIAL PASSENGER FISHING VESSEL (CHARTER BOAT) FISHERIES:
AK/WA/OR/CA commercial passenger fishing vessel | >7,000 (2,702 AK) | Killer whale, unknown. Steller sea lion, Eastern U.S. Steller sea lion, Western U.S.
LIVE FINFISH/SHELLFISH FISHERIES:
CA nearshore finfish live trap/hook-and-line | 93 | None documented.
HI aquarium collecting | 90 | None documented.
List of Abbreviations and Symbols Used in Table 1: AI—Aleutian Islands; AK—Alaska; BS—Bering Sea; CA—California; ENP—Eastern North Pacific; GOA—Gulf of Alaska; HI—Hawaii; MHI—Main Hawaiian Islands; OR—Oregon; WA—Washington; ¹ Fishery classified based on mortalities and serious injuries of this stock, which are greater than or equal to 50 percent (Category I) or greater than 1 percent and less than 50 percent (Category II) of the stock's PBR; ² Fishery classified by analogy; * Fishery has an associated high seas component listed in Table 3; ‸ The list of marine mammal species and/or stocks killed or injured in this fishery is identical to the list of species and/or stocks killed or injured in high seas component of the fishery, minus species and/or stocks have geographic ranges exclusively on the high seas. The species and/or stocks are found, and the fishery remains the same, on both sides of the EEZ boundary. Therefore, the EEZ components of these fisheries pose the same risk to marine mammals as the components operating on the high seas.

Table 2—List of Fisheries—Commercial Fisheries in the Atlantic Ocean, Gulf of Mexico, and Caribbean
Fishery description | Estimated Number of vessels/ persons | Marine mammal species and/or stocks incidentally killed or injured
CATEGORY I
GILLNET FISHERIES:
Mid-Atlantic gillnet | 5,509 | Bottlenose dolphin, Northern Migratory coastal.¹
|  | Bottlenose dolphin, Southern Migratory coastal.¹
|  | Bottlenose dolphin, Northern NC estuarine system.¹
|  | Bottlenose dolphin, Southern NC estuarine system.¹
|  | Bottlenose dolphin, WNA offshore.
|  | Common dolphin, WNA.
|  | Gray seal, WNA.
|  | Harbor porpoise, GME/BF.
|  | Harbor seal, WNA.
|  | Harp seal, WNA.
|  | Humpback whale, Gulf of Maine.
|  | Minke whale, Canadian east coast.
|  | Risso's dolphin, WNA.
|  | White-sided dolphin, WNA.
Northeast sink gillnet | 4,375 | Bottlenose dolphin, WNA offshore.
|  | Common dolphin, WNA.
|  | Fin whale, WNA.
|  | Gray seal, WNA.
|  | Harbor porpoise, GME/BF.¹
|  | Harbor seal, WNA.
|  | Harp seal, WNA.
|  | Hooded seal, WNA.
|  | Humpback whale, Gulf of Maine.
|  | Long-finned Pilot whale, WNA.
|  | Minke whale, Canadian east coast.
|  | North Atlantic right whale, WNA.
|  | Risso's dolphin, WNA.
|  | Short-finned Pilot whale, WNA.
|  | White-sided dolphin, WNA.
TRAP/POT FISHERIES:
Northeast/Mid-Atlantic American lobster trap/pot | 11,693 | Harbor seal, WNA.
|  | Humpback whale, Gulf of Maine.
|  | Minke whale, Canadian east coast.
|  | North Atlantic right whale, WNA.¹
LONGLINE FISHERIES:
Atlantic Ocean, Caribbean, Gulf of Mexico large pelagics longline * | 420 | Atlantic spotted dolphin, GMX continental and oceanic.
|  | Atlantic spotted dolphin, WNA.
|  | Bottlenose dolphin, Northern GMX oceanic.
|  | Bottlenose dolphin, WNA offshore.
|  | Common dolphin, WNA.
|  | Cuvier's beaked whale, WNA.
|  | False killer whale, WNA.
|  | Gervais beaked whale, GMX.
|  | Killer whale, GMX oceanic.
|  | Kogia spp. (Pygmy or dwarf sperm whale), WNA.
|  | Long-finned pilot whale, WNA.¹
|  | Mesoplodon beaked whale, WNA.
|  | Minke whale, Canadian East coast.
|  | Pantropical spotted dolphin, Northern GMX.
|  | Pantropical spotted dolphin, WNA.
|  | Risso's dolphin, Northern GMX.
|  | Risso's dolphin, WNA.
|  | Short-finned pilot whale, Northern GMX.
|  | Short-finned pilot whale, WNA.¹
|  | Sperm whale, GMX oceanic.
CATEGORY II
GILLNET FISHERIES:
Chesapeake Bay inshore gillnet ² | 1,126 | None documented in the most recent 5 years of data.
Gulf of Mexico gillnet ² | 724 | Bottlenose dolphin, GMX bay, sound, and estuarine.
|  | Bottlenose dolphin, Northern GMX coastal.
|  | Bottlenose dolphin, Western GMX coastal.
NC inshore gillnet | 1,323 | Bottlenose dolphin, Northern NC estuarine system.¹
|  | Bottlenose dolphin, Southern NC estuarine system.¹
Northeast anchored float gillnet.² | 421 | Harbor seal, WNA.
|  | Humpback whale, Gulf of Maine.
|  | White-sided dolphin, WNA.
Northeast drift gillnet ² | 311 | None documented.
Southeast Atlantic gillnet ² | 357 | Bottlenose dolphin, Central FL coastal.
|  | Bottlenose dolphin, Northern FL coastal.
|  | Bottlenose dolphin, SC/GA coastal.
|  | Bottlenose dolphin, Southern migratory coastal.
Southeastern U.S. Atlantic shark gillnet | 30 | Bottlenose dolphin, unknown (Central FL, Northern FL, SC/GA coastal, or Southern migratory coastal).
|  | North Atlantic right whale, WNA.
TRAWL FISHERIES:
Mid-Atlantic mid-water trawl (including pair trawl) | 322 | Common dolphin, WNA.
|  | Long-finned pilot whale, WNA.
|  | Risso's dolphin, WNA.
|  | Short-finned pilot whale, WNA.
|  | White-sided dolphin, WNA.¹
Mid-Atlantic bottom trawl | 631 | Bottlenose dolphin, WNA offshore.
|  | Common dolphin, WNA.¹
|  | Gray seal, WNA.
|  | Harbor seal, WNA.
|  | Long-finned pilot whale, WNA.¹
|  | Risso's dolphin, WNA.¹
|  | Short-finned pilot whale, WNA.¹
|  | White-sided dolphin, WNA.
Northeast mid-water trawl (including pair trawl) | 1,103 | Gray seal, WNA.
|  | Harbor seal, WNA.
|  | Long-finned pilot whale, WNA.¹
|  | Short-finned pilot whale, WNA.¹
|  | Common dolphin, WNA.
|  | White-sided dolphin, WNA.
Northeast bottom trawl | 2,987 | Bottlenose dolphin, WNA offshore.
|  | Common dolphin, WNA.
|  | Gray seal, WNA.
|  | Harbor porpoise, GME/BF
|  | Harbor seal, WNA.
|  | Harp seal, WNA.
|  | Long-finned pilot whale, WNA.
|  | Minke whale, Canadian East Coast.
|  | Short-finned pilot whale, WNA.
|  | White-sided dolphin, WNA.¹
Southeastern U.S. Atlantic, Gulf of Mexico shrimp trawl | 4,950 | Atlantic spotted dolphin, GMX continental and oceanic.
|  | Bottlenose dolphin, Charleston estuarine system.
|  | Bottlenose dolphin, Eastern GMX coastal.¹
|  | Bottlenose dolphin, GMX bay, sound, estuarine.¹
|  | Bottlenose dolphin, GMX continental shelf.
|  | Bottlenose dolphin, Northern GMX coastal.
|  | Bottlenose dolphin, SC/GA coastal.¹
|  | Bottlenose dolphin, Southern migratory coastal.
|  | Bottlenose dolphin, Western GMX coastal.¹
|  | West Indian manatee, Florida.
TRAP/POT FISHERIES:
Southeastern U.S. Atlantic, Gulf of Mexico stone crab trap/pot ² | 1,282 | Bottlenose dolphin, Biscayne Bay estuarine.
|  | Bottlenose dolphin, Central FL coastal.
|  | Bottlenose dolphin, Eastern GMX coastal.
|  | Bottlenose dolphin, FL Bay.
|  | Bottlenose dolphin, GMX bay, sound, estuarine (FL west coast portion).
|  | Bottlenose dolphin, Indian River Lagoon estuarine system.
|  | Bottlenose dolphin, Jacksonville estuarine system.
|  | Bottlenose dolphin, Northern GMX coastal.
Atlantic mixed species trap/pot ² | 3,467 | Fin whale, WNA.
|  | Humpback whale, Gulf of Maine.
Atlantic blue crab trap/pot | 8,557 | Bottlenose dolphin, Central FL coastal.¹
|  | Bottlenose dolphin, Charleston estuarine system.¹
|  | Bottlenose dolphin, Indian River Lagoon estuarine system.¹
|  | Bottlenose dolphin, Jacksonville estuarine system.¹
|  | Bottlenose dolphin, Northern FL coastal.¹
|  | Bottlenose dolphin, Northern GA/Southern SC estuarine system.¹
|  | Bottlenose dolphin, Northern Migratory coastal.¹
|  | Bottlenose dolphin, Northern NC estuarine system.¹
|  | Bottlenose dolphin, Northern SC estuarine system.
|  | Bottlenose dolphin, SC/GA coastal.¹
|  | Bottlenose dolphin, Southern GA estuarine system.¹
|  | Bottlenose dolphin, Southern Migratory coastal.¹
|  | Bottlenose dolphin, Southern NC estuarine system.¹
|  | West Indian manatee, FL.¹
PURSE SEINE FISHERIES:
Gulf of Mexico menhaden purse seine | 40-42 | Bottlenose dolphin, GMX bay, sound, estuarine.
|  | Bottlenose dolphin, Northern GMX coastal.¹
|  | Bottlenose dolphin, Western GMX coastal.¹
Mid-Atlantic menhaden purse seine ² | 5 | Bottlenose dolphin, Northern Migratory coastal.
|  | Bottlenose dolphin, Southern Migratory coastal.
HAUL/BEACH SEINE FISHERIES:
Mid-Atlantic haul/beach seine | 565 | Bottlenose dolphin, Northern Migratory coastal.¹
|  | Bottlenose dolphin, Northern NC estuarine system.¹
|  | Bottlenose dolphin, Southern Migratory coastal.¹
NC long haul seine | 372 | Bottlenose dolphin, Northern NC estuarine system.¹
|  | Bottlenose dolphin, Southern NC estuarine system.
STOP NET FISHERIES:
NC roe mullet stop net | 13 | Bottlenose dolphin, Northern NC estuarine system.
|  | Bottlenose dolphin, unknown (Southern migratory coastal or Southern NC estuarine system).
POUND NET FISHERIES:
VA pound net | 67 | Bottlenose dolphin, Northern migratory coastal.
|  | Bottlenose dolphin, Northern NC estuarine system.
|  | Bottlenose dolphin, Southern Migratory coastal.¹
CATEGORY III
GILLNET FISHERIES:
Caribbean gillnet | >991 | None documented in the most recent 5 years of data.
DE River inshore gillnet | Unknown | None documented in the most recent 5 years of data.
Long Island Sound inshore gillnet | Unknown | None documented in the most recent 5 years of data.
RI, southern MA (to Monomoy Island), and NY Bight (Raritan and Lower NY Bays) inshore gillnet | Unknown | None documented in the most recent 5 years of data.
Southeast Atlantic inshore gillnet | Unknown | Bottlenose dolphin, Northern SC estuarine system.
TRAWL FISHERIES:
Atlantic shellfish bottom trawl | >58 | None documented.
Gulf of Mexico butterfish trawl | 2 | Bottlenose dolphin, Northern GMX oceanic.
|  | Bottlenose dolphin, Northern GMX continental shelf.
Gulf of Mexico mixed species trawl | 20 | None documented.
GA cannonball jellyfish trawl | 1 | Bottlenose dolphin, SC/GA coastal.
MARINE AQUACULTURE FISHERIES:
Finfish aquaculture | 48 | Harbor seal, WNA.
Shellfish aquaculture | Unknown | None documented.
PURSE SEINE FISHERIES:
Gulf of Maine Atlantic herring purse seine | >7 | Harbor seal, WNA.
|  | Gray seal, WNA.
Gulf of Maine menhaden purse seine | >2 | None documented.
FL West Coast sardine purse seine | 10 | Bottlenose dolphin, Eastern GMX coastal.
U.S. Atlantic tuna purse seine * | 5 | Long-finned pilot whale, WNA.
|  | Short-finned pilot whale, WNA.
LONGLINE/HOOK-AND-LINE FISHERIES:
Northeast/Mid-Atlantic bottom longline/hook-and-line | >1,207 | None documented.
Gulf of Maine, U.S. Mid-Atlantic tuna, shark swordfish hook-and-line/harpoon | 428 | Bottlenose dolphin, WNA offshore.
|  | Humpback whale, Gulf of Maine.
Southeastern U.S. Atlantic, Gulf of Mexico, and Caribbean snapper-grouper and other reef fish bottom longline/hook-and-line | >5,000 | Bottlenose dolphin, GMX continental shelf.
Southeastern U.S. Atlantic, Gulf of Mexico shark bottom longline/hook-and-line | <125 | Bottlenose dolphin, Eastern GMX coastal.
|  | Bottlenose dolphin, Northern GMX continental shelf.
Southeastern U.S. Atlantic, Gulf of Mexico, and Caribbean pelagic hook-and-line/harpoon | 1,446 | None documented.
U.S. Atlantic, Gulf of Mexico trotline | Unknown | None documented.
TRAP/POT FISHERIES:
Caribbean mixed species trap/pot | >501 | None documented.
Caribbean spiny lobster trap/pot | >197 | None documented.
FL spiny lobster trap/pot | 1,268 | Bottlenose dolphin, Biscayne Bay estuarine
|  | Bottlenose dolphin, Central FL coastal.
|  | Bottlenose dolphin, Eastern GMX coastal.
|  | Bottlenose dolphin, FL Bay estuarine.
Gulf of Mexico blue crab trap/pot | 4,113 | Bottlenose dolphin, Eastern GMX coastal.
|  | Bottlenose dolphin, GMX bay, sound, estuarine.
|  | Bottlenose dolphin, Northern GMX coastal.
|  | Bottlenose dolphin, Western GMX coastal.
|  | West Indian manatee, FL.
Gulf of Mexico mixed species trap/pot | Unknown | None documented.
Southeastern U.S. Atlantic, Gulf of Mexico golden crab trap/pot | 10 | None documented.
U.S. Mid-Atlantic eel trap/pot | Unknown | None documented.
STOP SEINE/WEIR/POUND NET/FLOATING TRAP FISHERIES:
Gulf of Maine herring and Atlantic mackerel stop seine/weir | >1 | Harbor porpoise, GME/BF.
|  | Harbor seal, WNA.
|  | Minke whale, Canadian east coast.
|  | Atlantic white-sided dolphin, WNA.
U.S. Mid-Atlantic crab stop seine/weir | 2,600 | None documented.
U.S. Mid-Atlantic mixed species stop seine/weir/pound net (except the NC roe mullet stop net) | Unknown | Bottlenose dolphin, Northern NC estuarine system.
RI floating trap | 9 | None documented.
DREDGE FISHERIES:
Gulf of Maine sea urchin dredge | Unknown | None documented.
Gulf of Maine mussel dredge | Unknown | None documented.
Gulf of Maine, U.S. Mid-Atlantic sea scallop dredge | >403 | None documented.
Mid-Atlantic blue crab dredge | Unknown | None documented.
Mid-Atlantic soft-shell clam dredge | Unknown | None documented.
Mid-Atlantic whelk dredge | Unknown | None documented.
U.S. Mid-Atlantic/Gulf of Mexico oyster dredge | 7,000 | None documented.
U.S. Mid-Atlantic offshore surf clam and quahog dredge | Unknown | None documented.
HAUL/BEACH SEINE FISHERIES:
Caribbean haul/beach seine | 15 | None documented in the most recent 5 years of data.
Gulf of Mexico haul/beach seine | Unknown | None documented.
Southeastern U.S. Atlantic haul/beach seine | 25 | None documented.
DIVE, HAND/MECHANICAL COLLECTION FISHERIES:
Atlantic Ocean, Gulf of Mexico, Caribbean shellfish dive, hand/mechanical collection | 20,000 | None documented.
Gulf of Maine urchin dive, hand/mechanical collection | Unknown | None documented.
Gulf of Mexico, Southeast Atlantic, Mid-Atlantic, and Caribbean cast net | Unknown | None documented.
COMMERCIAL PASSENGER FISHING VESSEL (CHARTER BOAT) FISHERIES:
Atlantic Ocean, Gulf of Mexico, Caribbean commercial passenger fishing vessel | 4,000 | Bottlenose dolphin, Biscayne Bay estuarine.
|  | Bottlenose dolphin, Central FL coastal.
|  | Bottlenose dolphin, Choctawhatchee Bay.
|  | Bottlenose dolphin, Eastern GMX coastal.
|  | Bottlenose dolphin, FL Bay.
|  | Bottlenose dolphin, GMX bay, sound, estuarine.
|  | Bottlenose dolphin, Indian River Lagoon estuarine system.
|  | Bottlenose dolphin, Jacksonville estuarine system.
|  | Bottlenose dolphin, Northern FL coastal.
|  | Bottlenose dolphin, Northern GA/Southern SC estuarine.
|  | Bottlenose dolphin, Northern GMX coastal.
|  | Bottlenose dolphin, Northern migratory coastal.
|  | Bottlenose dolphin, Northern NC estuarine.
|  | Bottlenose dolphin, Southern migratory coastal.
|  | Bottlenose dolphin, Southern NC estuarine system.
|  | Bottlenose dolphin, Southern SC/GA coastal.
|  | Bottlenose dolphin, Western GMX coastal.
List of Abbreviations and Symbols Used in Table 2: DE—Delaware; FL—Florida; GA—Georgia; GME/BF—Gulf of Maine/Bay of Fundy; GMX—Gulf of Mexico; MA—Massachusetts; NC—North Carolina; NY—New York; RI—Rhode Island; SC—South Carolina; VA—Virginia; WNA—Western North Atlantic; ¹Fishery classified based on mortalities and serious injuries of this stock, which are greater than or equal to 50 percent (Category I) or greater than 1 percent and less than 50 percent (Category II) of the stock's PBR; ²Fishery classified by analogy; * Fishery has an associated high seas component listed in Table 3.

Table 3—List of Fisheries—Commercial Fisheries on the High Seas
Fishery description | Number of HSFCA permits | Marine mammal species and/or stocks incidentally killed or injured
CATEGORY I
LONGLINE FISHERIES:
Atlantic Highly Migratory Species * | 83 | Atlantic spotted dolphin, WNA.
|  | Bottlenose dolphin, Northern GMX oceanic.
|  | Bottlenose dolphin, WNA offshore.
|  | Common dolphin, WNA.
|  | Cuvier's beaked whale, WNA.
|  | False killer whale, WNA.
|  | Killer whale, GMX oceanic.
|  | Kogia spp. whale (Pygmy or dwarf sperm whale), WNA.
|  | Long-finned pilot whale, WNA.
|  | Mesoplodon beaked whale, WNA.
|  | Minke whale, Canadian East coast.
|  | Pantropical spotted dolphin, WNA.
|  | Risso's dolphin, GMX.
|  | Risso's dolphin, WNA.
|  | Short-finned pilot whale, WNA.
Western Pacific Pelagic (HI Deep-set component) * ‸ | 128 | Bottlenose dolphin, HI Pelagic.
|  | False killer whale, HI Pelagic.
|  | Pantropical spotted dolphin, HI.
|  | Risso's dolphin, HI.
|  | Short-finned pilot whale, HI.
|  | Sperm whale, HI.
|  | Striped dolphin, HI.
DRIFT GILLNET FISHERIES:
Pacific Highly Migratory Species * ‸ | 4 | Long-beaked common dolphin, CA.
|  | Humpback whale, CA/OR/WA.
|  | Northern right-whale dolphin, CA/OR/WA.
|  | Pacific white-sided dolphin, CA/OR/WA.
|  | Risso's dolphin, CA/OR/WA.
|  | Short-beaked common dolphin, CA/OR/WA
CATEGORY II
DRIFT GILLNET FISHERIES:
Atlantic Highly Migratory Species | 1 | Undetermined.
TRAWL FISHERIES:
Atlantic Highly Migratory Species ** | 1 | Undetermined.
CCAMLR | 0 | Antarctic fur seal.
Western Pacific Pelagic | 0 | Undetermined.
PURSE SEINE FISHERIES:
South Pacific Tuna Fisheries | 38 | Undetermined.
Western Pacific Pelagic | 3 | Undetermined.
LONGLINE FISHERIES:
CCAMLR | 0 | None documented.
South Pacific Albacore Troll | 13 | Undetermined.
South Pacific Tuna Fisheries ** | 8 | Undetermined.
Western Pacific Pelagic (HI Shallow-set component) * ‸ | 18 | Blainville's beaked whale, HI.
|  | Bottlenose dolphin, HI Pelagic.
|  | False killer whale, HI Pelagic.
|  | Humpback whale, Central North Pacific.
|  | Kogia spp. whale (Pygmy or dwarf sperm whale), HI.
|  | Risso's dolphin, HI.
|  | Short-beaked common dolphin, CA/OR/WA.
|  | Short-finned pilot whale, HI.
|  | Striped dolphin, HI.
HANDLINE/POLE AND LINE FISHERIES:
Atlantic Highly Migratory Species | 2 | Undetermined.
Pacific Highly Migratory Species | 41 | Undetermined.
South Pacific Albacore Troll | 8 | Undetermined.
Western Pacific Pelagic | 3 | Undetermined.
TROLL FISHERIES:
Atlantic Highly Migratory Species | 2 | Undetermined.
South Pacific Albacore Troll | 35 | Undetermined.
South Pacific Tuna Fisheries ** | 3 | Undetermined.
Western Pacific Pelagic | 19 | Undetermined.
LINERS NEI FISHERIES:
Pacific Highly Migratory Species ** | 1 | Undetermined.
South Pacific Albacore Troll | 1 | Undetermined.
Western Pacific Pelagic | 1 | Undetermined.
CATEGORY III
LONGLINE FISHERIES:
Northwest Atlantic Bottom Longline | 1 | None documented.
Pacific Highly Migratory Species * | 100 | None documented in the most recent 5 years of data.
PURSE SEINE FISHERIES
Pacific Highly Migratory Species * ‸ | 8 | None documented.
TRAWL FISHERIES:
Northwest Atlantic | 1 | None documented.
TROLL FISHERIES:
Pacific Highly Migratory Species * | 253 | None documented.
List of Terms, Abbreviations, and Symbols Used in Table 3:
CA—California; GMX—Gulf of Mexico; HI—Hawaii; OR—Oregon; WA—Washington; WNA—Western North Atlantic.
* Fishery is an extension/component of an existing fishery operating within U.S. waters listed in Table 1 or 2. The number of permits listed in Table 3 represents only the number of permits for the high seas component of the fishery.
** These gear types are not authorized under the Pacific HMS FMP (2004), the Atlantic HMS FMP (2006), or without a South Pacific Tuna Treaty license (in the case of the South Pacific Tuna fisheries). Because HSFCA permits are valid for five years, permits obtained in past years exist in the HSFCA permit database for gear types that are now unauthorized. Therefore, while HSFCA permits exist for these gear types, it does not represent effort. In order to land fish species, fishers must be using an authorized gear type. Once these permits for unauthorized gear types expire, the permit-holder will be required to obtain a permit for an authorized gear type.
‸ The list of marine mammal species and/or stocks killed or injured in this fishery is identical to the list of marine mammal species and/or stocks killed or injured in U.S. waters component of the fishery, minus species and/or stocks that have geographic ranges exclusively in coastal waters, because the marine mammal species and/or stocks are also found on the high seas and the fishery remains the same on both sides of the EEZ boundary. Therefore, the high seas components of these fisheries pose the same risk to marine mammals as the components of these fisheries operating in U.S. waters.

Table 4—Fisheries Affected by Take Reduction Teams and Plans
Take reduction plans | Affected fisheries
Atlantic Large Whale Take Reduction Plan (ALWTRP)—50 CFR 229.32 | Category I Mid-Atlantic gillnet.
| Northeast/Mid-Atlantic American lobster trap/pot.
| Northeast sink gillnet.
| Category II
| Atlantic blue crab trap/pot.
| Atlantic mixed species trap/pot.
| Northeast anchored float gillnet.
| Northeast drift gillnet.
| Southeast Atlantic gillnet.
| Southeastern U.S. Atlantic shark gillnet *.
| Southeastern, U.S. Atlantic, Gulf of Mexico stone crab trap/pot ‸.
Bottlenose Dolphin Take Reduction Plan (BDTRP)—50 CFR 229.35 | Category I Mid-Atlantic gillnet.
| Category II
| Atlantic blue crab trap/pot.
| Chesapeake Bay inshore gillnet fishery.
| Mid-Atlantic haul/beach seine.
| Mid-Atlantic menhaden purse seine.
| NC inshore gillnet.
| NC long haul seine.
| NC roe mullet stop net.
| Southeast Atlantic gillnet.
| Southeastern U.S. Atlantic shark gillnet.
| Southeastern U.S. Atlantic, Gulf of Mexico shrimp trawl ‸.
| Southeastern, U.S. Atlantic, Gulf of Mexico stone crab trap/pot ‸.
| VA pound net.
False Killer Whale Take Reduction Plan (FKWTRP)—50 CFR 229.37 | Category I HI deep-set longline.
| Category II
| HI shallow-set longline.
Harbor Porpoise Take Reduction Plan (HPTRP)—50 CFR 229.33 (New England) and 229.34 (Mid-Atlantic) | Category I Mid-Atlantic gillnet.
| Northeast sink gillnet.
Pelagic Longline Take Reduction Plan (PLTRP)—50 CFR 229.36 | Category I Atlantic Ocean, Caribbean, Gulf of Mexico large pelagics longline.
Pacific Offshore Cetacean Take Reduction Plan (POCTRP)—50 CFR 229.31 | Category I CA thresher shark/swordfish drift gillnet (≥14 in mesh).
Atlantic Trawl Gear Take Reduction Team (ATGTRT) | Category II Mid-Atlantic bottom trawl.
| Mid-Atlantic mid-water trawl (including pair trawl).
| Northeast bottom trawl.
| Northeast mid-water trawl (including pair trawl).
* Only applicable to the portion of the fishery operating in U.S. waters;
‸ Only applicable to the portion of the fishery operating in the Atlantic Ocean.

Classification

The Chief Counsel for Regulation of the Department of Commerce certified to the Chief Counsel for Advocacy of the Small Business Administration (SBA) at the proposed rule stage that this rule would not have a significant economic impact on a substantial number of small entities. No comments were received on that certification, and no new information has been discovered to change that conclusion. Accordingly, no regulatory flexibility analysis is required, and none has been prepared.

This rule contains collection-of-information requirements subject to the Paperwork Reduction Act. The collection of information for the registration of individuals under the MMPA has been approved by the Office of Management and Budget (OMB) under OMB control number 0648-0293 (0.15 hours per report for new registrants and 0.09 hours per report for renewals). The requirement for reporting marine mammal mortalities or injuries has been approved by OMB under OMB control number 0648-0292 (0.15 hours per report). These estimates include the time for reviewing instructions, searching existing data sources, gathering and maintaining the data needed, and completing and reviewing the collection of information. Send comments regarding these reporting burden estimates or any other aspect of the collections of information, including suggestions for reducing burden, to NMFS and OMB (see ADDRESSES and SUPPLEMENTARY INFORMATION).

Notwithstanding any other provision of law, no person is required to respond to nor shall a person be subject to a penalty for failure to comply with a collection of information subject to the requirements of the Paperwork Reduction Act unless that collection of information displays a currently valid OMB control number.

This rule has been determined to be not significant for the purposes of Executive Order 12866.

An environmental assessment (EA) was prepared under the National Environmental Policy Act (NEPA) in 1995 and 2005. The 1995 EA examined the effects of regulations implementing section 118 of the 1994 Amendments of the MMPA on the affected environment. The 2005 EA analyzed the environmental impacts of continuing the existing scheme (as described in the 1995 EA) for classifying fisheries on the LOF. The 1995 EA and the 2005 EA concluded that implementation of MMPA section 118 regulations would not have a significant impact on the human environment. NMFS reviewed the 2005 EA in 2009. NMFS concluded that because there were no changes to the process used to develop the LOF and implement section 118 of the MMPA, there was no need to update the 2005 EA. NMFS initiated an EA for the LOF in 2013 but did not finalize it because the no action alternative described in the 2005 EA is still the preferred alternative. This rule would not change NMFS' current process for classifying fisheries on the LOF; therefore, this rule is not expected to change the analysis or conclusion of the 2005 EA and FONSI, and no update is needed. If NMFS takes a management action, for example, through the development of a TRP, NMFS would first prepare an environmental document, as required under NEPA, specific to that action.

This rule would not affect species listed as threatened or endangered under the Endangered Species Act (ESA) or their associated critical habitat. The impacts of numerous fisheries have been analyzed in various biological opinions, and this rule will not affect the conclusions of those opinions. The classification of fisheries on the LOF is not considered to be a management action that would adversely affect threatened or endangered species. If NMFS takes a management action, for example, through the development of a TRP, NMFS would consult under ESA section 7 on that action.

This rule would have no adverse impacts on marine mammals and may have a positive impact on marine mammals by improving knowledge of marine mammals and the fisheries interacting with marine mammals through information collected from observer programs, stranding and sighting data, or take reduction teams.

This rule would not affect the land or water uses or natural resources of the coastal zone, as specified under section 307 of the Coastal Zone Management Act.

References

Allen, B.M. and R.P. Angliss, editors. 2014. Alaska Marine Mammal Stock Assessments, 2013. NOAA Tech. Memo. NMFS-AFSC-277. 294 p.

Carretta, J.V., E. Oleson, D.W. Weller, A.R. Lang, K.A. Forney, J. Baker, B. Hanson, K Martien, M.M. Muto, M.S. Lowry, J. Barlow, D. Lynch, L. Carswell, R.L. Brownell Jr., D.K. Mattila, and M.C. Hill. 2014. U.S. Pacific Marine Mammal Stock Assessments: 2013. NOAA Technical Memorandum NOAA-TM-NMFS-SWFSC-532. 406 p.

McCracken, M.L. 2010. Adjustments to false killer whale and short-finned pilot whale bycatch estimates. NMFS, Pacific Islands Fisheries Science Center Working paper WP-10-007. 23 p.

NMFS. 2013. Biological Opinion on the continued management of the drift gillnet fishery under the Fishery Management Plan for U.S. West Coast Fisheries for Highly Migratory Species 2012/03020:DDL, dated May 2, 2013, at 10-11, n.7.

Waring, G.T., E. Josephson, K. Maze-Foley, and P.E. Rosel, editors. 2014. U.S. Atlantic and Gulf of Mexico Marine Mammal Stocks Assessments, 2013. NOAA Technical Memorandum NOAA-NE-228. 464 p.

Dated: December 19, 2014.
Samuel D. Rauch III,
Deputy Assistant Administrator for Regulatory Programs, National Marine Fisheries Service.

[FR Doc. 2014-30375 Filed 12-24-14; 8:45 am]

BILLING CODE 3510-22-P